OFFICE OF THE UNITED STATES TRADE REPRESENTATIVE

Exclusion of Particular Products From Actions Under Section 203 of the Trade Act of 1974 With Regard to Certain Steel Products; Conforming Changes and Technical Corrections to the Harmonized Tariff Schedule of the United States

AGENCY: Office of the United States Trade Representative.

ACTION: Notice.

SUMMARY: Pursuant to authority granted to the United States Trade Representative (USTR) in Presidential Proclamation 7529 of March 5, 2002 (67 FR 10553) and Presidential Proclamation 7576 of July 3, 2002, the USTR has found that particular products should be excluded from actions under section 203 of the Trade Act of 1974 (19 U.S.C. 2253) (Trade Act) with regard to certain steel products, and is modifying subchapter III of chapter 99 of the Harmonized Tariff Schedule of the United States (HTS) as set forth in the annex to this notice to implement these exclusions. Pursuant to authority delegated to the USTR in Presidential Proclamation 6969 of January 27, 1997 (62 FR 4415), USTR is making technical corrections to subchapter III of chapter 99 of the Harmonized Tariff Schedule of the United States (HTS) as set forth in the annex to this notice. These modifications correct several inadvertent errors and omissions in the subheadings 9903.72.30 through 9903.74.24 of the HTS so that the intended tariff treatment is provided.

EFFECTIVE DATE: The modifications and corrections made in this notice are effective with respect to articles entered, or withdrawn from warehouse for consumption, on or after the dates set forth in each item in the annex to this notice.

FOR FURTHER INFORMATION CONTACT: Office of Industry, Office of the United States Trade Representative, 600 17th Street, NW., Room 501, Washington DC, 20508. Telephone (202) 395-5656.

SUPPLEMENTARY INFORMATION: On March 5, 2002, pursuant to section 203 of the Trade Act of 1974, as amended (the “Trade Act”) (19 U.S.C. 2253), the President issued Proclamation 7529 (67 FR 10553), which imposed tariffs and a tariff-rate quota on (a) certain flat steel, consisting of: slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day. Effective with respect to goods entered, or withdrawn from warehouse for consumption, on or after 12:01 a.m., EST, on March 20, 2002, Proclamation 7529 modified subchapter III of chapter 99 of the HTS so as to provide for such increased duties and a tariff-rate quota. Proclamation 7529 also delegated to the USTR the authority to consider requests for exclusion of a particular product submitted in accordance with the procedures set out in 66 FR 54321, 54322-54323 (October 26, 2001) and, upon publication in the Federal Register of a notice of his finding that a particular product should be excluded, to modify the HTS provision created by the annex to that proclamation to exclude such particular product from the pertinent safeguard measure. On April 5, 2002, USTR published a notice in the Federal Register excluding four particular products from the safeguard measures, and modified the HTS accordingly. 67 FR 16484. On July 3, the President issued Proclamation 7576, which extended the period for granting exclusions until August 31, 2002. On July 12, 2002, USTR published a notice in the Federal Register excluding additional products from the safeguard measures, and modified the HTS accordingly. 67 F.R. 46221.

I have further considered exclusion requests for certain products designated as X-010, X-035, X-037, X-038, X-063, X-068, X-081, X-083, X-090, X-099, X-106, X-142, X-146, X-162, N-300, N-301, N-304, N-305, N-310, N-312, N-314, N-316, N-319, N-320, N-323, N-324, N-325, N-329, N-332, N-333, N-335, N-339, N-346, N-353, N-354, N-355, N-361, N-364, N-372, N-374, N-376, N-378, N-379, N-381, N-387, N-389, N-390, N-395, N-397, N-400, N-406, N-408, N-412, N-414, N-420, N-422, N-424, N-425, N-427, N-428, N-430, N-436, N-437, N-441, N-444, N-449, N-457, N-458, N-459, N-463, N-464, N-465, N-469, N-470, N-472, N-476, N-478, N-479, N-485, N-489, N-494, N-495, N-497, N-520, N-521, N-526, N-529, and N-530. I find that the exclusion from the safeguard measures established in Proclamation 7529 of certain steel products within these designations, as described in the annex to this notice, would not undermine the goals of those safeguard measures. Therefore, I find that these products should be excluded from those safeguard measures. Accordingly, under authority vested in the USTR by Proclamations 7529 and 7576, I modify the HTS provisions created by the annex to Proclamation 7529 as set forth in the annex to this notice. Such modifications shall be embodied in the HTS with respect to goods entered, or withdrawn from warehouse for consumption, on the dates indicated in the annex to this notice.

On March 19, 2002, June 4, 2002, and July 12, 2002, USTR published Federal Register notices (67 FR 12635, 67 FR 38541, and 67 FR 46221, respectively) making technical corrections to subchapter III of chapter 99 of the HTS to remedy several technical errors introduced in the annex to Proclamation 7529. These corrections ensured that the intended tariff treatment was provided. Since the publication of these Federal Register notices, additional technical errors and omissions in subchapter III of chapter 99 have come to the attention of USTR. The annex to this notice makes technical corrections to the HTS to remedy these errors and omissions. In particular, the annex to this notice corrects errors in the descriptions of the physical dimensions or chemical composition of certain products excluded from the application of the safeguard measures.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the date set forth with regard to each item in the annex to this notice.

Jon M. Huntsman, Jr.,
Deputy United States Trade Representative.

Annex

Subchapter III of chapter 99 of the Harmonized Tariff Schedule (HTS) is modified as set forth in this annex, with bracketed matter included to assist in the understanding of the modifications. The following provisions supersede matter now in the HTS, with the new subheadings being inserted by this notice set forth in columnar format and the material inserted in the HTS columns entitled “Heading/Subheading”, “Article Description”, “Rates of Duty 1 General”, “Rates of Duty 1 Special”, and “Rates of Duty 2”, respectively. The corrections in existing provisions contained in section I of this annex shall be effective (i) on or after March 20, 2002, in the case of HTS provisions effective as of that date, or (ii) in the case of later-adopted HTS provisions, on or after the date of the inclusion in, or of the previous correction of, the individual HTS provision being corrected by this annex, except as indicated in the next sentence. Individual subdivisions of U.S. note 11 to subchapter III of chapter 99 of the HTS set forth in this annex specifying that quantities of the named goods may, after the date of signature of this notice, enter under the terms of such subdivisions and their associated subheadings shall be effective with respect to such goods entered, or withdrawn from warehouse for consumption, on or after 12:01 a.m. EDT on September 1, 2002. The other new subdivisions of U.S. note 11(c) and their associated subheadings announced in section II of this annex shall be effective with respect to goods entered, or withdrawn from warehouse for consumption, on or after 12:01 a.m. EST, on March 20, 2002.

Section 1. In order to make corrections in existing provisions or to add a newly excluded product or products to existing provisions:

1. Subdivision (a)(ii) of U.S. note 11 is modified by deleting “flat-rolled”, and by deleting “or 7226” and by inserting in lieu thereof “, 7226, 7227 or 7228”.

2. The following modifications are made in subdivision (b) of U.S. note 11:

(A) in subdivision (b)(iv)(C) through (J), at the beginning of the text of each subdivision, the phrase “products sometimes referred to as (but not limited to)” is inserted;

(B)(1) in subdivision (b)(vii)(B), “1.64” is deleted and “1.625 mm to 1.655” is inserted in lieu thereof, and “19.5” is deleted and “19.3 mm to 19.7” is inserted in lieu thereof;

(2) in subdivision (b)(vii)(C), “0.975” is deleted and “0.955 mm to 0.985” is inserted in lieu thereof, and “8.8” is deleted and “8.6 mm to 9.0” is inserted in lieu thereof;

(3) in subdivision (b)(vii)(D), “1.02” is deleted and “1.01 mm to 1.03” is inserted in lieu thereof, and “10.7” is deleted and “10.5 mm to 10.9” is inserted in lieu thereof;

(4) in subdivision (b)(vii)(H), “1.84” is deleted and “1.8 mm to 1.88” is inserted in lieu thereof, and “43.6 mm or 16.1 mm” is deleted and “43.4 mm to 43.8 mm or 16.1 mm to 16.5 mm” is inserted in lieu thereof;

(5) in subdivision (b)(vii)(I), “0.97” is deleted and “0.95 mm to 0.98” is inserted in lieu thereof, and “20” is deleted and “19.95 mm to 20”is inserted in lieu thereof;

(C) in subdivision (b)(x), the phrase “containing, by weight, carbon of between 2.9 and 3.7 percent, silicon of between 1.6 and 2.7 percent, and manganese of between 0.5 and 0.8 percent” is deleted and “containing, by weight, carbon of between 2.8 and 4.0 percent, silicon of between 1.6 and 3.1 percent and manganese not over 0.8 percent”, and “or N-520” is inserted after “X-137';

(D) in subdivision (b)(xii), the text beginning with “containing” and ending with “aluminum of 1.00 percent” is deleted and “containing (percent by weight): carbon 0.10 to 0.2, manganese 1.3 to 1.7, sulfur 0.08 to 0.2, copper 0.9 to 1.2, silicon 0.2 to 0.5, molybdenum 0.2 to 0.5, nickel 2.5 to 3.5 and aluminum 0.8 to 1.1” is inserted in lieu thereof; and “X-134” is deleted and “X-134 or N-408” is inserted in lieu thereof;

(E) in subdivision (b)(xx)(D), “12 maximum” is deleted and “1.5 maximum” is inserted in lieu thereof;

(F)(1) in subdivision (b)(xxii), “or N-408” is inserted after “X-134”;

(2) in subdivision (b)(xxii)(A), the text beginning with “composition” and ending with “aluminum 1.00 percent” is deleted and “composition (percent by weight): carbon 0.1 to 0.2, manganese 1.3 to 1.7, molybdenum 0.2 to 0.5, copper 0.9 to 1.2, silicon 0.2 to 0.5, nickel 2.5 to 3.5 and aluminum 0.8 to 1.1” is inserted in lieu thereof;

(3) in subdivision (b)(xxii)(B), the text beginning with “composition” and ending with “chromium 2.10 percent” is deleted and “composition (percent by weight): carbon 0.1 to 0.2, manganese 1.7 to 1.9, sulfur 0.02 to 0.04, molybdenum 0.3 to 0.6, copper not over 0.1, silicon not over 0.1, phosphorus not over 0.01, nickel not over 0.2 percent, vanadium 0.08 to 0.15 and chromium 1.9 to 2.5” is inserted in lieu thereof;

(4) in subdivision (b)(xxii)(C), the text beginning with “composition” and ending with “molybdenum 0.80 percent” is deleted and “composition (percent by weight): carbon 0.7 to 0.9, manganese 1.2 to 1.5, chromium 0.8 to1.2 and molybdenum 0.6 to 1.0” is inserted in lieu thereof;

(5) in subdivision (b)(xxii)(D), the text beginning with “composition” and ending with “molybdenum 0.3 percent” is deleted and “composition (percent by weight): carbon 0.1 to 0.2, manganese 1.4 to 1.7, copper 0.9 to 1.2, chromium 1.4 to 1.7, aluminum 0.8 to 1.1, silicon 0.2 to 0.5, sulfur 0.1 to 0.4, nickel 2.5 to 3.5 and, molybdenum 0.2 to 0.5” is inserted in lieu thereof;

(G) in subdivision (b)(xxiii)(C), the words “not over” are inserted after “copper”, and “niobium (columbium)” is deleted and “total content of vanadium and columbium combined” is inserted in lieu thereof;

(H) in subdivision (b)(xxxii)(E), “short camber ±0.2997 mm over 1,016 mm, long camber: ±0.7620 mm over 3,048 mm” is deleted and “short camber ±0.2997 mm over 1,016 mm longitudinal length, long camber: ±0.7620 mm over 3,048 mm longitudinal length” is inserted in lieu thereof;

(I) in subdivision (b)(xxxiv)(B), the words “less than” are inserted after “copper”;

(J) in subdivision (b)(xxxiv)(I), “ksi” is deleted and “MPa” is inserted in lieu thereof;

(K) in subdivision (b)(xlv), the text beginning with “containing” and ending with “nickel” is deleted and “'with chemical composition (percent by weight): carbon 0.78 to 1.25, silicon 0.10 to 0.65, manganese 11.0 to 14.0, phosphorus not over 0.06, sulfur not over 0.06, chromium not over 0.65, molybdenum not over 0.15, nickel either (i) not over 0.4 or (ii) 1.5 to 2.0, and copper not over 0.35” is inserted in lieu thereof;

3. The following modifications are made in subdivision (c) of U.S. note 11:

(A) in subdivision (c)(i)(A), the phrase “entered in an aggregate annual quantity not to exceed 45,000 t during the 12-month period beginning on July 3, 2002 or July 3, 2003 or during the period July 3, 2004 through March 20, 2005, inclusive,” is deleted;

(B) in subdivision (c)(i)(B), the phrase “entered in an aggregate annual quantity not to exceed 5,700 t during the 12-month period beginning on July 3, 2002 or July 3, 2003 or during the period July 3, 2004 through March 20, 2005, inclusive,” is deleted;

(C) in subdivision (c)(i)(C), the phrase “entered in an aggregate annual quantity not to exceed 17,500 t during the 12-month period beginning on July 3, 2002 or July 3, 2003 or during the period July 3, 2004 through March 20, 2005, inclusive,” is deleted;

(D) in subdivision (c)(vi)(A), the phrase “entered in an aggregate annual quantity not to exceed 45,000 t during the 12-month period beginning on September 1, 2002 or September 1, 2003 or during the period September 1, 2004 through March 20, 2005, inclusive,” is inserted immediately after “in coils,”;

(E) in subdivision (c)(vi)(B), the phrase “entered in an aggregate annual quantity not to exceed 5,700 t during the 12-month period beginning on September 1, 2002 or September 1, 2003 or during the period September 1, 2004 through March 20, 2005, inclusive,” is inserted immediately after “in coils,”;

(F) in subdivision (c)(vi)(C), “entered in an aggregate annual quantity not to exceed 17,500 t during the 12-month period beginning on September 1, 2002 or September 1, 2003 or during the period September 1, 2004 through March 20, 2005, inclusive,” is inserted immediately after “in coils,”;

(G) in subdivision (c)(xv), the phrase “elongation of minimum 3 percent;” is inserted before “continuously”;

(H) in subdivision (c)(xvi)(A), the phrase “, or for micro-alloyed steels for cold upsetting: 19Mn5, 26Mn5, 34Mn5, 40Mn5” is inserted after “aluminum at least 0.02”;

(I) in subdivision (c)(xvii), “X-162” is deleted and “X-185” is inserted in lieu thereof;

(J) in subdivision (c)(xx)(E), “one-half” is deleted and “1.5” is inserted in lieu thereof;

(K) in subdivision (c)(xxx)(I), the phrase “1060 N yield strength 580 to 730 N” is deleted and “1060 N/mm²; yield strength 580 to 730 N/mm²;” is inserted in lieu thereof;

(L) in subdivision (c)(xxxiii)(A), the phrase “and inclusions groups or clusters shall not exceed 5 microns in length” is inserted after “greater than 1”;

(M) in subdivision (c)(xxxiii)(B) the phrase “clusters not exceeding 5” is deleted and the phrase “clusters shall not exceed 5 microns in length” is inserted in lieu thereof;

(N) in subdivision (c)(xliv)(C), the phrase “entered in an aggregate annual quantity not to exceed 36,000 t during the 12-month period beginning on July 12, 2002 or July 12, 2003 or during the period July 12, 2004 through March 20, 2005, inclusive,” is deleted;

(O) in subdivision (c)(xxxvi)(A), “0.508 mm” is deleted and “0.340 mm” is inserted in lieu thereof;

(P)(1) in subdivision (c)(xliii), “or N-408” is inserted after “X-134”;

(2) in subdivision (c)(xliii)(A), the text beginning with “composition” and ending with “aluminum 1.00” is deleted and “composition (percent by weight): carbon 0.1 to 0.2, manganese 1.3 to 1.7, sulfur 0.08 to 0.2, copper 0.9 to 1.2, silicon 0.2 to 0.5, molybdenum 0.2 to 0.5, nickel 2.5 to 3.5 and aluminum 0.8 to 1.1” is inserted in lieu thereof;

(3) in subdivision (c)(xliii)(B), the text beginning with “composition” and ending with “aluminum 1.00” is deleted and “composition (percent by weight): carbon 0.1 to 0.2, manganese 1.3 to 1.7, molybdenum 0.2 to 0.5, copper 0.9 to 1.2, silicon 0.2 to 0.5, nickel 2.5 to 3.5 and aluminum 0.8 to 1.1” is inserted in lieu thereof;

(4) in subdivision (c)(xliii)(C), the text beginning with “composition” and ending with “molybdenum 0.3” is deleted and “composition (percent by weight): carbon 0.1 to 0.2, manganese 1.4 to 1.7, copper 0.9 to 1.2, chromium 1.4 to 1.7, aluminum 0.8 to 1.1, silicon 0.2 to 0.5, sulfur 0.1 to 0.4, nickel 2.5 to 3.5, and molybdenum 0.2 to 0.5” is inserted in lieu thereof;

(5) in subdivision (c)(xliii)(D), the text beginning with “composition” and ending with “chromium 2.10” is deleted and “composition (percent by weight): carbon 0.1 to 0.2, manganese 1.7 to 1.9, sulfur 0.02 to 0.04, molybdenum 0.3 to 0.6, copper not more than 0.1, silicon not more than 0.1, phosphorus not more than 0.01, nickel not more than 0.2 percent, vanadium 0.08 to 0.15 and chromium 1.9 to 2.5” is inserted in lieu thereof;

(6) in subdivision (c)(xliii)(E), the text beginning with “composition” and ending with “molybdenum 0.80” is deleted and “composition (percent by weight): carbon 0.7 to 0.9, manganese 1.2 to 1.5, chromium 0.8 to1.2 and molybdenum 0.6 to 1.0” is inserted in lieu thereof;

(Q)(1) in subdivision (c)(xlvii)(A), the phrase “tensile strength 724 N/mm²” is deleted and “tensile strength greater than or equal to 689 N/mm²” is inserted in lieu thereof;

(2) in subdivision (c)(xlvii)(B), the phrase “tensile strength 724 N/mm²” is deleted and “tensile strength greater than or equal to 689 N/mm²” is inserted in lieu thereof;

(R) in subdivision (c)(lv), the phrase “and entered in an aggregate annual quantity not to exceed 75,000 t during the 12-month period beginning on July 3, 2002 or July 3, 2003 or during the period July 3, 2004 through March 20, 2005, inclusive;” is deleted and a comma is inserted after “X-100”;

(S) in subdivision (c)(lxiii), the word “and” is deleted before “exposed”, the phrase “; with the eluted volume of the coating less than 100 mg” is deleted, and “, and the eluted volume of the coating is less than 100mg” is inserted in lieu thereof;

(T) in subdivision (c)(lvi), the words “or similar product” are inserted after ““RAMAX S”“; “chromium 16.2 to 17.0” is deleted and “chromium 15.2 to 17.0” is inserted in lieu thereof; and “nitrogen 0.10” is deleted and “nitrogen 0.07” is inserted in lieu thereof; and “type D: T .0” is deleted and “type D: t 2.0” is inserted in lieu thereof;

(U) in subdivision (b)(xxv)(B), “250 t” is deleted and “600 t” is inserted in lieu thereof; and subheading 9903.72.97 is modified by deleting “250 t” and inserting in lieu thereof, “600 t”,

(V) subdivision (lxxiii) is modified to read as follows:

(lxxiii) Flat-rolled products, designated as X-048, N-316 or N-472 and meeting the characteristics described below:

(A) coated with zinc-aluminum allow consisting of 95 percent zinc and 6 percent aluminum by weight, sometimes referred to as (but not limited to) products known as “Ragal Galfan'; thickness not over 0.75 mm; width 1,220 mm or more;

(B) coated with hot dipped 95 percent zinc/5 percent aluminum/trace mischmetal alloy coating; sometimes referred to as (but not limited to) products known as “Galfan”; thickness 0.4572 mm to 1.4224 mm; with coating of GF 30, produced in accordance with ASTM A-875;

(C) ASTM A875 DDS interstitial-free (IFS) boron-treated for antibrittleness; yield strength 220 MPa maximum; tensile strength 270 to 350 MPa; elongation 34 percent minimum in a standard ASTM sample; with chemical composition (percent by weight): carbon not over 0.004, manganese 0.80 to 0.20, boron 0.0002 to 0.0006, aluminum 0.01 to 0.07, phosphorus not over 0.015 and sulfur not over 0.020; sometimes referred to as (but not limited to) products known as “Galfan”; or

(D) ASTM A875 interstitial-free (IFS); yield point 230 MPa minimum; tensile strength 325 to 400 MPa; elongation 34 percent minimum in a standard ASTM sample; Langford coefficient (n) 0.17; minimum anisotropy ratio (r) 1.5 minimum in transverse direction; with chemical composition (percent by weight): carbon not over 0.009, titanium 0.050 or greater and phosphorus 0.02 to 0.04; sometimes referred to as (but not limited to) products known as “Galfan”,”

3. Subheading 9903.72.31 is modified by inserting “or N-520” after “X-137”.

4. Subdivision (c)(lxviii) of U.S. note 11 is modified by inserting after “N-319” the phrase “and entered in an aggregate quantity not to exceed 10 t during the 12-month period beginning on September 1, 2002 or September 1, 2003 or during the period from September 1, 2004 through March 20, inclusive”, and the article description of subheading 9903.77.32 is modified by inserting at the end thereof “and entered in an aggregate quantity not to exceed 10 t during a period specified in such note”.

5. The superior text to subheadings 9903.73.42 through 9903.73.52 is modified by deleting from the enumeration of HTS subheadings the following numbers: “7227.90.10, 7227.90.20,” “7228.30.20,” and “7228.60.10,”.

6. The superior text to subheadings 9903.73.55 through 9903.73.62 is modified by deleting “7228.50.10,'.

7. The article description of subheading 9903.74.62 is modified by deleting “11(c)(vi)” and by inserting in lieu thereof “11(c)(vi)(A)”, and is further modified by inserting at the end thereof “, and entered in an aggregate quantity during a time period specified in such note not to exceed 45,000 t”.

8. Subheading 9903.74.73 is modified by deleting “750” and by inserting in lieu thereof “6,500”.

9. The following new provisions are inserted in numerical sequence:

| [Goods. . . :]
“9903.74.82 | Enumerated in U.S. note 11(c)(vi)(B) to this subchapter and entered in an aggregate quantity during a time period specified in such note not to exceed 5,700 t | No change | No change | No change
9903.74.83 | Enumerated in U.S. note 11(c)(vi)(C) to this subchapter and entered in an aggregate quantity during a time period specified in such note not to exceed 17,500 t | No change | No change | No change”

10. Subheading 9903.75.33 is modified by deleting from the article description “, and entered in an aggregate annual quantity not to exceed 45,000 t”.

11. Subheading 9903.75.34 is modified by deleting from the article description “, and entered in an aggregate annual quantity not to exceed 5,700 t”.

12. Subheading 9903.75.35 is modified by deleting from the article description “, and entered in an aggregate annual quantity not to exceed 17,500 t”.

13. Subdivision (c)(xxi) of U.S. note 11 is modified by inserting after “N-319” the phrase “and entered in an aggregate annual quantity not to exceed 50 t during the 12-month period beginning on September 1, 2002 or September 1, 2003 or during the period from September 1, 2004 through March 20, 2005, inclusive”, and the article description of subheading 9903.76.86 is modified by inserting at the end thereof “and entered in an aggregate annual quantity not to exceed 50 t during a time period specified in such note”.

14. Subdivision (d) of U.S. note 11 is modified by inserting the following new paragraph:

“(iv) For purposes of the superior text to subheadings 9903.74.18 through 9903.74.24, the phrase “products of Canada” shall be deemed to include stainless steel wire, not shaved or peeled and certified by the importer as having been drawn and annealed in Canada from stainless steel wire rod, and such wire shall be excluded from the additional duties set forth in subheadings 9903.74.22 through 9903.74.24.”

15. The superior text to subheadings 9903.73.88 through 9903.73.95 is modified by inserting after “fittings” the phrase “, other than hydraulic fittings,”.

16. The superior text to subheadings 9903.73.97 through 9903.74.06 is modified by inserting after “sections of stainless steel” the phrase “, other than such goods with any linear dimension of 80 mm or greater when measured through a solid portion of the cross section”.

Section II. In order to accord additional exclusions from the proclaimed import relief:

1. U.S. note 11(c) is modified by adding at the end thereof the following new subdivisions:

“(lxxx) Cold-finished free-cutting steel bars, turned and polished, the foregoing with a diameter of 146.05 mm or more but not over 355.6 mm, meeting specifications ASTM A29/A108, and designated as N-424;

(lxxxi) Hexagonal section cold-finished bar, designated as N-424, measuring 57.15 mm or more but not over 101.6 mm when measured across section between flat sides; containing less than 0.60 percent carbon by weight; and meeting ASTM A29/A108;

(lxxxii) Cold-finished bars of iron-based alloy, designated as N-479; the foregoing being directly cast thin ribbon with amorphous microstructure; with chemical composition (percent by weight): silicon 5 to 12, copper 0.5 to 2, niobium (columbium) or molybdenum 3 to 7, boron 1 to 2 and nickel or cobalt 0.0 to 10; material thickness between 0.01and 0.04 mm;

(lxxxiii) Cold-rolled flat-rolled products, in coils, designated as N-314; the foregoing draw quality; meeting QS 9000; with thickness 0.5 mm to 4.0 mm; width 670 mm +/-0.127; with chemical composition (percent by weight): carbon 0.47 or more but not over 0.55, manganese 0.60 or more but not over 0.90, silicon not over 0.20, phosphorus not over 0.02 and sulfur not over 0.020; aluminum killed (fine grain practice), vacuum degassed; inclusion content (sulfides, alumina, silicates and oxides) to be no greater than rating #2 thin series per ASTM E 45; no heavy inclusions permitted; micro structure fine pearlite with no over 30 percent proeutectoid ferrite and no carbide ferrite banding; grain size #5 or finer per ASTM E 112; surface decarburization not over 0.0254 mm; [demonstrated to be free of defects detrimental to: in press drawing, forming and heat treating to customer specified tolerances];

(lxxxiv) Cold-rolled flat-rolled products, designated as N-422; with thickness 0.85 mm or more but not over 1.98 mm, width 15 mm ±0.03 mm; with chemical composition (percent by weight): carbon 0.50 to 0.55, silicon 0.20 to 0.35, manganese 0.80 to 1.1, phosphorus not over 0.02, sulfur not over 0.01, chromium 1.0 to 1.2, aluminum not over 0.035 and vanadium 0.1 to 0.2; carbides fully spheroidized size CG 2.2 to 2.3; perlite content 3.0 (according to SEP 1520); percentage purity is M less than or equal to 3; edge oxidation less than 0.02 mm; surface free from pits, scratches, rust, cracks or seams; edge burrs oriented in one direction only; produced in basic oxygen furnace;

(lxxxv) Cold-rolled flat-rolled products, designated as N-489; with chemical composition (percent by weight): carbon 1.20 to 1.30, manganese 0.20 to 0.35, phosphorus not over 0.02, sulfur not over 0.003, silicon 0.15 to 0.35 and chromium 0.30 to 0.50; slit, deburred and annealed edges; straightness 9.5 mm maximum in 2440 mm; coil set 254 mm maximum in 920 mm; and microstructure with fully spheroidized carbides of uniform size and distribution;

(lxxxvi) Hollow drill bars and rods, designated as N-332, the foregoing of any cross-section of which the greatest external dimension of the cross-section exceeds 15 mm but does not exceed 52 mm and of which the greatest internal dimension does not exceed one half of the greatest external dimension; meeting any of the following chemical compositions (percent by weight):

(A) carbon 0.21 to 0.26, silicon 0.15 to 0.35, manganese 0.55 to 0.75, phosphorus not over 0.025, sulfur 0.01 to 0.025, chromium 1.2 to 1.4, nickel 2.5 to 2.9 and copper not over 0.2; known commercially as “Bedrock 2725”;

(B) carbon 0.73 to 0.78, silicon not over 0.25, manganese not over 0.3, phosphorus not over 0.04, sulfur not over 0.04, chromium not over 0.2, nickel not over 0.2, molybdenum not over 0.1 and copper not over 0.25; known commercially as “Bedrock 7378”;

(C) carbon 0.22 to 0.25, silicon 0.2 to 0.35, manganese 0.4 to 0.65, phosphorus not over 0.025, sulfur 0.01 to 0.025, with combined phosphorus and sulfur not over 0.04, chromium 3.0 to 3.5, nickel not over 0.2, molybdenum 0.3 to 0.5 and copper not over 0.25; known commercially as “Bedrock 3350”;

(D) carbon 0.95 to 1.05, silicon not over 0.3, manganese 0.25 to 0.35, phosphorus not over 0.025, sulfur 0.01 to 0.025, chromium 0.9 to 1.05, nickel not over 0.25, molybdenum 0.2 to 0.3 and copper not over 0.25; known commercially as “Bedrock 1130”; or

(E) carbon 0.35 to 0.4, silicon 0.1 to 0.3, manganese 0.7 to 0.9, phosphorus not over 0.04, sulfur not over 0.04, chromium not over 0.2, nickel not over 0.4, molybdenum not over 0.15 and copper not over 0.3; known commercially as “Bedrock 3540”;

(lxxxvii) Hot-rolled products, designated as N-354, with thickness from 10 mm to 19 mm; width from 98 mm to 118 mm; with chemical composition (percent by weight): carbon 0.28 to 0.33, manganese 0.45 to 0.65, silicon 0.55 to 0.75, phosphorus not over 0.025, sulfur not over 0.025, chromium 1.00 to 1.24, molybdenum 0.40 to 0.60, vanadium 0.20 to 0.30, nickel not over 0.25 and copper not over 0.25; spherodize annealed, descaled; hardness of 86 to 96 HRB; grain size ASTM 4.5 or finer with occasional grains as large as 3 permissible, as determined using ASTM E112, decarburization (sub and partial) determined using ASTM E1077; aircraft quality conforming to AMS 2301 and free from injurious imperfections such as laminating, segregation and surface defects; produced by basic oxygen or electric furnace process, killed, treated with rare earths or calcium-silicon; flatness: for up to 12.7 mm thick, less than 6.35 mm in 3048 mm; for 12.7 mm to 15.9 mm thick, less than 12.7 mm in 3658 mm; or for 15.9 mm to 25.4 mm thick, less than 25.4 mm in 3048 mm;

(lxxxviii) Hot-rolled miniature railroad rails, designated as N-379, having the following dimensions: height 25.3 mm ±0.5 mm; width of base 23.8 mm ±0.5 mm; width of head 12.5 mm ±0.3 mm; radius of crown on head 47.6 mm ±0.5; web thickness at thinnest 2.8 mm; AISI grade 1015 steel;

(lxxxix) Hot-rolled bars, designated as N-424, in the following grades and dimensions:

(A) free-cutting grade AISI C12L14, half-round profiles, measuring 77.8 mm by 39.7 mm, with a tolerance of ±1.5 mm on all cross-sectional dimensions;

(B) ASTM A36 half-oval profiles, containing less than 0.6 percent carbon by weight; measuring 50.8 mm by 12.7 mm with a tolerance of ±1.5 mm on all cross-sectional dimensions;

(C) SAE 4140 alloy steel, with rectangular profile measuring 34.93 mm by 28.58 mm with a tolerance of ±1.5 mm; hardened and tempered; eddy current crack inspected;.

(D) ASTM A36 half-round profiles, containing less than 0.06 percent carbon by weight; measuring 50.8 mm by 25.4 mm with a tolerance of ±1.5 mm on all cross-sectional dimensions;

(E) ASTM A36 half-round profiles, containing less than 0.6 percent carbon by weight; measuring 40 mm by 20 mm with a tolerance of ±1.5 mm on all cross-sectional dimensions;

(F) triangular type special bar shapes, with two sides each 31.8 mm in length, with one sharp corner and two blunt corners with 6.35 mm flat points, and a tolerance of ±1.5 mm on all cross-sectional dimensions;.

(G) special bar shapes of rectangular type cross section, containing by weight less than 0.25 percent of carbon; with an overall width of 82.55 mm and maximum thickness of 32.0 mm; with one long face having a flat surface and the opposite face having a tapered surface with an indent 8mm deep at one end; having one side face at 90 degrees to one long flat surface and the other side face angled at 6 degrees to the plain surface, and with four external corners and one internal corner each having a radius of 3 mm maximum, and a tolerance of ±1.5 mm on all cross-sectional dimensions and a tolerance of plus or minus 2 degrees on all angles;

(H) ASTM A36 half-round profiles, containing less than 0.6 percent carbon by weight; in size 63.5 mm by 31.8 mm with a tolerance of ±1.5 mm on all cross-sectional dimensions; or

(I) ASTM A36 half-round profiles, containing less than 0.6 percent carbon by weight; in size 76 mm by 38 mm with a tolerance of ±1.5 mm on all cross-sectional dimensions;

(xc) Hot-rolled flat-rolled products, designated as X-142 and meeting the characteristics described below:

(A) having a width greater than 914 mm and certified by the importer to meet specification JIS SCM 435;

(B) having a width greater than 915 mm; with chemical composition (percent by weight): carbon 0.23 to 0.33, manganese 0.40 to 0.60, silicon 0.15 to 0.35, phosphorus not over 0.030, sulfur not over 0.040, chromium 0.80 to 1.10 and molybdenum 0.15 to 0.25 (modified SAE 4130); hardness: HRB 90 maximum;

(C) having a width greater than 914 mm; with chemical composition (percent by weight): carbon 0.33 to 0.38, manganese 0.60 to 0.90, silicon 0.15 to 0.30, phosphorus not over 0.030, sulfur not over 0.030, chromium 0.90 to 1.25 and molybdenum 0.15 to 0.25 (modified SAE 4135);

(xci) Hot-rolled flat-rolled products, designated as N-320, certified by the importer as rolled from slab continuously cast with electromagnetic stirring, with hydrogen content of not over 2 ppm and rolling reduction ratio of not less than 5:1; having a thickness 30 mm to 120 mm; fully soft annealed with maximum surface hardness of 300 Brinnell, meeting either of the following chemical compositions (percent by weight):

(A) nickel 0.2 to 0.3, carbon 0.25 to 0.28, silicon 0.60 to 0.80, manganese 0.80 to 1.00, phosphorus not over 0.010, sulfur not over 0.010, chromium 0.80 to 1.00, molybdenum 0.30 to 0.35 and boron 0.001 to 0.005; or

(B) nickel 1.10 to 1.15, carbon 0.25 to 0.28, silicon 0.60 to 0.80, manganese 0.80 to 1.00, phosphorus not over 0.010, sulfur not over 0.010, chromium 0.80 to 1.00, molybdenum 0.30 to 0.35 and boron 0.001 to 0.005;

(xcii) Semifinished products, designated as X-106, X-037 or N-355 and entered in an aggregate quantity not to exceed 250,000 t during the 12-month period beginning on September 1, 2002 or September 1, 2003 or during the period from September 1, 2004 through March 20, 2005, inclusive; containing by weight 0.001 to 0.005 percent of carbon; containing titanium and/or niobium (columbium) to stabilize carbon nitrogen and sulfur; thickness from 200 mm to 250 mm; width from 760 mm to 2135 mm; and length from 4.2 meters to 12 meters;

(xciii) Semifinished products of nonalloy and alloy interstitial free (IF) steel, designated as N-430 and entered in an aggregate quantity not to exceed 250,000 t during the 12-month period beginning on September 1, 2002 or September 1, 2003 or during the period from September 1, 2004 through March 20, 2005, inclusive; the foregoing containing by weight less than 0.015 percent carbon; width from 939 mm to 1651 mm, certified for use during the process of blast furnace relining, including the removal and replacement of substantially all refractories on a blast furnace;

(xciv) Welded cold-finished drawn-over-mandrel tubing, designated as N-458; the foregoing certified by the importer to meet DIN2392-C-ST37-2 BK; with outside diameter from 15 mm to 22 mm (+0.16 mm); inside diameter from 13 mm to 20 mm (+0.05 mm); wall thickness not to exceed 1.3 mm; with chemical composition (percent by weight): carbon 0.10 to 0.18, manganese 0.45 or more, phosphorus not over 0.035, sulfur not over 0.035 and aluminum 0.020 or more; tensile strength 450 to 600 N/mm²; elongation greater than 8 percent; surface finish of Rmax 3μm or less; delivered in 4 m to 7 m random lengths; plain ends; unmachined; internally and externally oiled to prevent corrosion;

(xcv) Cold-finished round bars, designated as N-325 and entered in an aggregate quantity not to exceed 1,472 t during the 12-month period beginning on September 1, 2002 or September 1, 2003 or during the period from September 1, 2004 through March 20, 2005, inclusive; the foregoing quenched, tempered and stress relieved; meeting ASTM A-320 L7; of a diameter from 12.7 mm to 44.44 mm;

(xcvi) Cold drawn flat bars, designated as N-425; of grade C1018; containing not over 0.25 percent by weight of carbon; not further worked than cold drawn, thickness from 3.17 mm to 12.7 mm; width 12.7 mm to 50.8 mm; meeting ASTM A29/A108;

(xcvii) Bright polish doctor blade steel, designated as N-305, with thickness between 0.152 mm and 0.254 mm; width between 12.7 mm and 63.5 mm; with chemical composition (percent by weight): carbon 0.95 to 1.05, silicon 0.20 to 0.35, manganese 0.20 to 0.50, phosphorus not over 0.015, sulfur not over 0.015 and chromium 0.05 to 0.15; microstructure with uniform distribution of spherical carbides greater than 140,000 pieces/mm²; maximum particle size between 1.0 and 1.5 micrometers; tensile strength 1960 =/−100 N/mm²; bright polish surface finish free from pits, rust, cracks, and scratches; edge treatments: lamella edge with thickness tolerance within 0.003 mm, beveled edges with angle from 5 to 15 degrees and rounded edges on both edges of the blade.

(xcviii) Cold-rolled flat-rolled products, designated as N-316, the foregoing in coils; continuous annealed; center line thickness tolerance of ±3 percent; nitrogen content not exceeding 0.005 percent by weight; electron beam texturing (“EBT”) finish; maximum surface carbon after power wash of 4 mg/m² per side; with either:

(A) Composition of grade known commercially as DSE 220; yield strength 220 to 270 MPa; tensile strength 320 to 370 MPa; minium elongation 35 percent on standard ASTM sample; or

(B) hardness of HRB 50 to 65 and of grade ASTM 1008;

(xcix) Cold-rolled flat-rolled measuring tape steel products, designated as N-400, the foregoing of SAE 1095; with chemical composition (percent by weight): carbon 0.98 to 1.05, silicon 0.15 to 0.30, manganese 0.4 to 0.6, sulfur less than 0.005, phosphorus less than 0.2, aluminum less than 0.01, chromium 0.15 to 0.4, copper less than 0.15 and nickel less than 0.15; width 12.7 mm or more but not over 508 mm, thickness 0.1143 mm or more but not over 0.1422 mm with thickness tolerance: ±0.005 mm; edges deburred, with:

(A) Tensile strength 1,000 to 1,100 N/mm²

(B) Hardened and tempered and with Vickers hardness from 580 to 650;

(c) Cold-rolled flat-rolled products, designated as N-478, the foregoing with bright finish; thickness 0.096 mm or more but not over 1.145 mm; width 6.3 mm or more but not over 38.5 mm; maximum edge burr 0.005 mm; straightness 6.35 mm in 2,440 mm length; maximum camber; with chemical composition (percent by weight): carbon 0.98 to 1.05, silicon 0.15 to 0.30, manganese 0.3 to 0.6, sulfur not over 0.005, phosphorus not over 0.02, aluminum not over 0.01, chromium 0.15 to 0.4, copper not over 0.15 and nickel not over 0.15; microstructure carbides fully spheroidized and uniform in size and distribution; average carbide size #1 to #2, with occasional maximum carbide size of #3; pursuant to industry standard chart for band blades (Fagersta Bruks AG or Crucible Steel Co chart); no graphitization; no segregation banding; inclusion content as defined in ASTM E-45, plate 1; less dense than category #2 when the sample is viewed in the as-rolled direction; partial decarburization not to exceed 0.0077 mm on one side and uniform on both sides of the strip; no total decarburization;

(ci) Cold-rolled soft magnetic crystalline strip; the foregoing an iron based alloy with approximately 30 percent by weight nickel; thickness between 0.9 mm and 1.2 mm; the foregoing designated as N-479;

(cii) Cold-rolled flat rolled measuring tape steel, designated as N-494, the foregoing with chemical composition (percent by weight): carbon 0.48 to 0.55, manganese 0.60 to 0.90, phosphorus not over 0.040 and sulfur not over 0.050; fully hardened, fully tempered martensite with small iron carbides; hardness Rockwell C 50 to 53; no ferrite islands nor surface decarburation; surface finish silver in color; free from pits, scratches, rust, cracks, or seams; smooth edges with no burr; edge camber of less than 3.175 mm in any 6.096 meters, with such product:

(A) flat and either—

(I) having a thickness equal to 0.11429 mm ±0.00279 mm; width of 9.5249 mm (plus 0 minus 0.22097 mm) or 12.7 mm (plus zero, minus 0.22097 mm) or 19.0499 mm (plus zero, minus 0.22097 mm); or

(II) having a thickness equal to 0.12954 mm ±0.0027939 mm; width of 12.7 mm (plus zero, minus 0.22097 mm) or 19.0499 mm (plus zero, minus 0.22097 mm); or

(B) curved with a concave form the entire length of the coil with 13 mm radius (plus 2 mm, minus 1 mm), for 70 degrees of width (plus 5 degrees, minus 2 degrees), ending with flat on both edges for 4.76 mm (±0.13 mm) by 5.10 mm (±0.13 mm) and either—

(I) having a thickness equal to 0.114299 mm ±0.0027939 mm and width of 25.4 mm (plus zero, minus 0.220979 mm); or

(II) having a thickness equal to 0.12954 mm ±0.0027939 mm and width of 25.4 mm (plus zero, minus 0.220979 mm);

(ciii) Electrogalvanized flat-rolled products, with thickness 2.0 mm or more; with zinc coating on one side; of GM 6201M grade 3, DDS; the foregoing designated as N-316;

(civ) Flat-rolled products, designated as N-346 and entered in an aggregate quantity not to exceed 3,000 t; the foregoing coated with aluminum; thickness from 0.40 to 3.00 mm; width 600 to 1,320 mm; with chemical composition (percent by weight): carbon not over 0.02, manganese not over 0.40, phosphorus not over 0.02, sulfur not over 0.02, copper not over 0.20, nickel not over 0.20, chromium not over 0.15, molybdenum not over 0.06 and titanium 0.05 to 0.30; yield strength 120 to 180 N/mm² and maximum tensile strength 330 N/mm²;

(cv) Forged bars, designated as N-312; the foregoing with thickness from 52 mm to 1,270 mm; width up 2,500 mm; length up to 5,000 mm; of the alloy commercially known as “2738 Thruhard Supreme” with typical chemical analysis (percent by weight): carbon 0.26, silicon 0.05, manganese 1.45, sulfur 0.002, chromium 1.25, nickel 1.05, molybdenum 0.50 and vanadium 0.10; hardness 280 to 355 BHN;

(cvi) Angles, U-sections and I-beam sections, designated as N-319 and entered in an aggregate quantity not to exceed 5 t during the 12-month period beginning on September 1, 2002 or September 1, 2003 or during the period from September 1, 2004 through March 20, 2005, inclusive; the foregoing in metric sizes only; not further worked than hot-rolled, hot drawn, or extruded; with a chemical composition (percent by weight): not over 0.22 carbon, not over 1.6 manganese, not over 0.55 silicon, not over 0.05 sulfur and the remainder iron; meeting the characteristics described below:

(A) angles in metric sizes, measuring from 6,000 mm to 12,000 mm in length, from midpoint along each arm joined at a 90-degree angle; web thickness from 3 mm to 7 mm; width from 25 mm to 80 mm along the entire angle;

(B) U-sections in metric sizes, each with a center-bottom piece with thickness from 6.4 mm to 7.6 mm and width from 25 mm to 76 mm; joined along the entire length of both long sides to horizontal pieces at a 90-degree angle; with such horizontal pieces, of a width from 25 mm to 76 mm and thickness from 6.4 mm to 7.6 mm, protruding from the center-bottom piece in such a manner that the outside of each side piece is flush with the outside of the center-bottom piece to produce a frontal view of a squared-off “U” with the width of the entire shape equaling the width of the center-bottom piece; or

(C) I-beam sections in metric sizes, with a vertical center piece measuring 80 mm in height and with thickness from 3.8 mm to 5.2 mm; joined along the entire length of the top of both long sides to the mid-lines of the interior faces of the horizontal pieces at 90-degree angles; each horizontal piece, with width from 46 mm to 55 mm and thickness from 3.8 mm to 5.2 mm, protruding from the center piece in such a manner that the inside of each horizontal piece is flush with the outside top of the center piece to produce a frontal view of an “I” with the height of the entire shape equaling thewidth of the center piece added to the thickness of both side pieces, totaling less than 80 mm; length from 6 m to 12 m;

(cvii) Hot-rolled bars and rods, designated as N-395 and entered in an aggregate quantity not to exceed 15,000 t during the 12-month period beginning on September 1, 2002 or September 1, 2003 or during the period from September 1, 2004 through March 20, 2005, inclusive; the foregoing whether in coils or in straight lengths, not further worked than hot-rolled, of free cutting AISI grade 12L14; commercially designated as “XLCUT'; containing by weight over 0.23 percent but less than 0.35 percent lead in controlled dispersion to prevent lead stringers; certified by importer to have had a reduction ratio of a minimum of 150:1 achieved through continuous bloom casting at either 560 x 400 mm, or 750 x 355 mm; fully surface inspected and certified by the producer to be free from defects deeper than 2 percent of bar diameter/section; certified free from mixes, achieved by 100 percent spectrometer testing of bar product;

(cviii) Bars of grade SAE 4140, not further worked than hot rolled, designated as N-424, with one of the following cross sections:

(A) nonstandard trapezoidal type bar shapes, having a shortest face length of 37.27 mm; with two sides angled at 15 degrees 10 minutes and thickness of 23.18 mm; with tolerances of ±1.5 mm being on all cross sectional dimensions and ±2 degrees on all angles;

(B) nonstandard triangular type special bar shapes, with cross-sectional shape being a segment of a circle; described by a radius of length 42.8 mm and an inclusive angle of 45 degrees; with tolerances of ±1.5 mm on all cross sectional dimensions and ±2 degrees on all angles; suitable for cold drawing;

(C) nonstandard special trapezoidal type bar shapes, having a shortest face length of 34.1 mm; with two sides angled at 15 degrees, and a thickness of 23.16 mm; with tolerances of ±1.5 mm on all cross sectional dimension and ±2 degrees on all angles; or

(D) nonstandard triangular type special bar shapes, with cross-sectional shape being a segment of a circle, described by a radius of length 50.698 mm and an inclusive angle of 45 degrees; with tolerances of ±1.5 mm on all cross sectional dimensions and ±2 degrees on all angles; suitable for cold drawing;

(cix) Hot-rolled flat-rolled products, designated as N-301, the foregoing pickled and oiled; cut-to-length; spherodize annealed; thickness from 8.50 mm to 10.00 mm with a tolerance of ±0.1524 mm; width from 175 mm to 385 mm; mill edge; lengths less than or equal to 2,540 mm; with chemical composition (percent by weight): carbon 0.65 to 0.70, manganese 0.35 to 0.50, silicon 0.20 to 0.35, phosphorus 0.25 maximum, sulphur 0.25 maximum, chromium 0.45 to 0.60, nickel 0.55 to 0.75 and molybdenum 0.15 to 0.25;

(cx) Hot-rolled flat-rolled products, designated as N-316; the foregoing of high strength low alloy grade 80 wide steel with the following characteristics: yield strength of 550 to 650 MPa; tensile strength of 620 to 750 MPa; elongation not less than 16 percent; guaranteed bending radius of 0.8 times a thickness less than 6 mm or 1.5 times a thickness greater than 6mm; guaranteed minimum Charpy V test of 39 Joules at −20 °C (−4 °F); thickness from 7.91 mm to 15.88 mm; width from 1.83 m to 2.13 m; with chemical composition (percent by weight): carbon not over 0.10, manganese not over 1.7, phosphorus not over 0.025, sulfur not over 0.01, silicon not over 0.4, aluminum from 0.02 to 0.06; niobium (columbium) not over 0.08, molybdenum not over 0.3 and vanadium not over 0.15;

(cxi) Hot-rolled flat-rolled products, designated as N-316 and entered in an aggregate quantity not to exceed 7,000 t during the 12-month period beginning on September 1, 2002 or September 1, 2003 or during the period from September 1, 2004 through March 20, 2005, inclusive; the foregoing of temper passed grade A1001CSB/1008 CQ; thickness from 1.37 mm to 1.53 mm; width over 1,500 mm; yield strength of 179 to 340 MPa; maximum tensile strength of 440 MPa; minimum elongation of 28 percent; with chemical composition (percent by weight): carbon not over 0.1, manganese not over 0.5, phosphorus not over 0.03, sulfur not over 0.03, silicon not over 0.03, copper not over 0.04, nickel not over 0.04, chromium not over 0.04 and aluminum content over 0.01;

(cxii) Hot-rolled flat-rolled products, designated as N-316; the foregoing meeting SAE J1392 080XLF; thickness 2.54 mm to 5.08 mm; width 1,016 mm to 1,524 mm; with chemical composition (percent by weight): carbon not over 0.12, manganese not over 1.9, phosphorus not over 0.025, sulfur not over 0.015, silicon not over 0.5, aluminum content of 0.01 to 0.04, titanium not over 0.22, niobium (columbium) not over 0.09, molybdenum not over 0.5 and vanadium not over 0.2; yield strength not less than 621 MPa; tensile strength not less than 689 MPa; elongation not less than 14 percent; and guaranteed bending radius of 0.8 times a thickness less than 6 mm and 1.5 times a thickness greater than 6 mm;

(cxiii) Hot-rolled flat-rolled products, designated as N-463; the foregoing with thickness 1.9 mm or more but not over 3.01 mm; width over 254 mm but not over 343 mm; with one of the following chemical compositions (percent by weight):

(A) carbon 1.21 to 1.35, manganese 0.15 to 0.35, phosphorus not over 0.025, sulfur not over 0.010, silicon 0.15 to 0.25, chromium 0.10 to 0.30, copper not over 0.15 and aluminum not over 0.015;

(B) carbon 0.56 to 0.64, manganese 0.75 to 1.00, phosphorus not over 0.025, sulfur not over 0.010, silicon 1.80 to 2.20, chromium 0.25 to 0.60 and aluminum 0.02 to 0.06; or

(C) carbon 1.10 to 1.25, manganese 0.20 to 0.40, phosphorus not over 0.030, sulfur not over 0.007, silicon 0.15 to 0.30, chromium 0.50 to 0.80 and vanadium 0.07 to 0.12;

(cxiv) Hot-rolled flat-rolled products, designated as N-529; the foregoing with thickness 3 mm to 4.75 mm; with chemical composition (percent by weight): carbon 0.20 to 0.30, manganese 0.80 to 1.0, nickel 3.25 to 4.00, chromium 1.25 to 2.00 and molybdenum 0.25 to 0.50; known commercially as “Astralloy V TM'';

(cxv) Hot-rolled flat-rolled products, designated as X-083 and entered in an aggregate quantity not to exceed 20,000 t during the 12-month period beginning on September 1, 2002 or September 1, 2003 or during the period from September 1, 2004 through March 20, 2005, inclusive; the foregoing in-line temper-passed and tension-leveled; pickled and oiled; of surface critical steel in grade A1011 CS B 1008 CQ; thickness from 1.7 mm to 7.59 mm; width from 1,000 mm to 2,135 mm; yield strength 241 MPa to 310 MPa; tensile strength 345 MPa to 414 MPa; with chemical composition (percent by weight): carbon 0.06 to 0.08, manganese 0.25 to 0.35, phosphorus not over 0.02, sulfur not over 0.008, silicon not over 0.02, aluminum 0.02 to 0.05, copper not over 0.025, nickel not over 0.03 and chromium not over 0.04, with the combined total of silicon and phosphorus less than 0.09; in coils; certified by the importer to have (I) flatness guarantee of 4 international units before and after laser cutting in sheets or blanks when using appropriate leveling practice on the cut-to-length equipment, (II) surface quality defined by a guarantee on level of defect and appearance AS and a surface quality guarantee of no visible defect (defects include blemishes due to roll marks, pits, rolling scale and scratches) after painting for both sides of A flat panel, and (III) surface with a typical whiteness value of 70 ± 5 on scale L * (reference CIE 1976 L *, a *, b *);

(cxvi) Hot-rolled flat-rolled products, designated as X-083 and entered in an aggregate quantity not to exceed 10,500 t during the 12-month period beginning on September 1, 2002 or September 1, 2003 or during the period from September 1, 2004 through March 20, 2005, inclusive; the foregoing with chemical composition (percent by weight): carbon 0.10 to 0.20, manganese 0.50 to 1.00, phosphorus not over 0.02, sulfur not over 0.005, silicon 0.20 to 0.50, chromium 0.40 to 0.70, copper 0.05 to 0.40, nickel 0.05 to 0.30, molybdenum not over 0.50 and vanadium not over 0.02, with iron as the only remaining input; minimum tensile strength 517 MPa, minimum yield strength 379 MPa; minimum elongation 29 percent;

(cxvii) Hot-rolled flat-rolled products, designated as X-083 and entered in an aggregate quantity not to exceed 5,300 t during the 12-month period beginning on September 1, 2002 or September 1, 2003 or during the period from September 1, 2004 through March 20, 2005, inclusive; the foregoing with chemical composition (percent by weight): carbon 0.10 to 0.20, manganese 0.50 to 1.00, phosphorus not over 0.02, sulphur not over 0.005, silicon 0.20 to 0.50, chromium 0.40 to 0.70, copper 0.05 to 0.40, nickel 0.05 to 0.30, molybdenum 0.05 to 0.50, vanadium not over 0.02, niobium (columbium) not over 0.05, titanium not over 0.03 with total combined vanadium, niobium (columbium) and titanium content of 0.01 to 0.07, and aluminum 0.01 to 0.05, with iron as the only remaining input; minimum tensile strength 621 MPa, minimum tensile yield 496 MPa; minimum elongation of 25 percent;

(cxviii) Hot-rolled flat-rolled products, designated as N-316; the foregoing cut to length; thickness 4.75 to 6.00 mm; with chemical composition (percent by weight): carbon 0.20 to 0.30, manganese 0.80 to 1.00, nickel 3.25 to 4.00, chromium 1.25 to 2.00 and molybdenum 0.25 to 0.50; known commercially as “Astralloy V TM'';

(cxix) Hot-rolled flat-rolled products, designated as N-329; the foregoing with thickness 30 mm to 120 mm, inclusive; certified by the importer to have been continuously cast with electromagnetic stirring and with minium rolling reduction ration of 5:1; no over 2 ppm hydrogen content; full annealed to a surface hardness not to exceed HBS 10/3000; with either of the following chemical compositions (percent by weight):

(A) carbon 0.28 to 0.29, silicon 0.64 to 0.72, manganese 0.80 to 0.90, chromium 0.80 to 0.90, phosphorus not over 0.015, sulfur not over 0.005, nickel 1.10 to1.15, molybdenum 0.30 to 0.35, aluminum 0.02 to 0.07, titanium 0.020 to 0.040 and boron 0.0005 to 0.003; or

(B) carbon 0.28 to 0.29, silicon 0.64 to 0.72, manganese 0.85 to 0.95, chromium 0.80 to 0.90, phosphorus not over 0.01, sulfur not over 0.005, nickel 0.20 to 0.30, molybdenum 0.30 to 0.35, aluminum 0.02 to 0.07, titanium 0.02 to 0.04 and boron 0.0005 to 0.003;

(cxx) Stainless steel bars and rods, designated as N-319 and entered in an aggregate quantity not to exceed 5 t during the 12-month period beginning on September 1, 2002 or September 1, 2003 or during the period from September 1, 2004 through March 20, 2005, inclusive; the foregoing not further worked than hot-rolled, hot-drawn or extruded; if in standard metric sizes of square section measuring 10 mm to 50 mm, or if of rectangular section with the smallest side measuring 10 mm to 25 mm and the largest side measuring not over 100 mm; length not over 4,000 mm; with chemical composition (percent by weight): carbon not over 0.07, manganese not over 2.0, silicon not over 1.0, phosphorus not over 0.04, sulfur not over 0.03, chromium not over 20.0, nickel not over 12.0 and remainder iron;

(cxxi) Stainless steel bars, designated as X-081 and entered in an aggregate quantity not to exceed 1,500 t during the 12-month period beginning on September 1, 2002 or September 1, 2003 or during the period from September 1, 2004 through March 20, 2005, inclusive the foregoing hot-rolled or forged, rough or smooth turned; AISI 410; with chemical composition (percent by weight): carbon not over 0.15 and chromium 11.5 or more; liquid quenched and double tempered; minimum yield 517 MPa; minimum tensile strength 655 MPa; minimum elongation 17 percent; maximum hardness Rockwell C 22 (241 BHN);

(cxxii) Welded rectangular tubes, designated as N-495; the foregoing meeting ASTM A-500; measuring 152.4 mm by 50.8 mm but having a minimum yield strength 450 MPa; wall thickness 1.65 mm to 6.05 mm; length 6,096 to 12,192 mm; galvanized with a smooth in-line galvanized external zinc coating of 100 g/m² to 200 g/m²; external zinc coating further passivated to resist white rust; internal corrosion protection (barrier or zinc rich paint); fully killed, continuous cast fine grain microstructure; with chemical composition (percent by weight): carbon not over 0.23, manganese not over 1.35, silicon not over 0.25, aluminum not over 0.10, phosphorus not over 0.035, sulphur not over 0.035 and carbon equivalent not over 0.39; not further worked than cold formed;

(cxxiii) Cold-drawn resulfurized and rephosphorized leaded bars, the foregoing designated as N-323; with chemical composition (percent by weight): carbon not over 0.15, manganese 0.85 to 1.15, phosphorus 0.04 to 0.09, silicon 0.26 to 0.35 and lead 0.15 to 0.35; surface finish 32 RMS or better with maximum camber 3 mm in 915 mm; maximum twist 3 degrees in 915 mm, perpendicular and parallel across stock, radius to radius; either (I) with thickness not over 15.875 mm ±0.05 mm, width not over 47.5 mm ±0.05 and shaped radius edges not over 8 mm, or (II) with thickness not over 14.325 mm ±0.05 mm, width not over 39.725 mm ±0.05 mm and shaped radius edges not over 7.25 mm;

(cxxiv) Products designated as N-361 and sometimes referred to as (but not limited to) products known as “HPM1”; the foregoing including (I) hot-rolled flat-rolled products 4.75 mm or more in thickness and whether or not rough machined, (II) hot-rolled or hot-forged hardened bars, whether or not rough machined, and (III) hardened bars, hot-rolled, cold-formed and rough machined; all the foregoing with hardness 37 to 41 HRC defined by ASTM E-18; with uniform grain, heat-treated; with chemical composition (percent by weight): carbon 0.05 to 0.15, silicon not over 1.00, manganese 0.50 to 1.50, sulfur 0.05 to 0.15, nickel 2.50 to 3.50, molybdenum 0.20 to 0.70, copper 1.50 to 2.50, aluminum 0.80 to 1.50; mechanical properties as follows: 1,100 to1,350 MPa tensile strength and 15 percent minimum elongation in longitudinal direction; minimum Charpy-notch impact energy is 12 J in longitudinal direction;

(cxxv) Cold-finished bars, designated as N-387; such products may be sandblasted, machined or ground and polished; all the foregoing with chemical composition (percent by weight): carbon not over 0.05, nickel 17 to 19, molybdenum 4 to 5, cobalt 11 to 14 and titanium 1 to 2; martensitic precipitation hardening steel; certified by importer as produced by vacuum induction melting (VIM) followed by consumable electrode vacuum remelting (VAR); minimum tensile strength 2,000 MPa at room temperature; surface finish as rolled, as forged, sandblasted, machined or ground and polished; sometimes referred to as (but not limited to) products known as “Bohler V726”;

(cxxvi) Flat bars, designated as N-424; not further worked than cold finished, of grade C1018; containing by weight no more than 0.25 percent carbon; width 371.48 mm or more but not over 508 mm; meeting specification ASTM A29/108;

(cxxvii) Cold-drawn flat bars, designated as N-424; the foregoing certified by the importer to have been processed from hot-rolled coil on a Schumag machine or equivalent; of grade C1018; with carbon content not over 0.25 percent by weight; not further worked than cold drawn; thickness 3.17 mm to 12.7 mm; width 12.7 to 50.8 mm; meeting ASTM specification A29/A108;

(cxxviii) Cold-rolled flat-rolled products, designated as N-314; the foregoing continuous cast; in coils; width 600 mm or greater; thickness of not over 5.00 mm; carbon content 0.45 to 0.55 percent by weight; chemical composition to conform to SAE1050; certified by the importer to meet requirements of automotive original equipment manufacturers according to the Production Part Approval Process (PPAP) and qualified to be used in the manufacture of automotive fasteners that may also be designated as “Safety Critical” according to QS9000;

(cxxix) Cold-rolled flat-rolled products, designated as N-335; the foregoing in coils; annealed; with chemical composition (percent by weight): nickel 17.5 to 18.5, molybdenum 4.50 to 5.50, cobalt 8.00 to 9.00, titanium 0.45 to 0.65, aluminum 0.10 to 0.15, silicon not over 0.02, manganese not over 0.02, chromium not over 0.01, copper not over 0.01, carbon not over 0.01, sulfur not over 0.005 and phosphorus not over 0.005; titanium carbon-nitride inclusions and other inclusions 5 micrometers or smaller in size; other non-metallic stringers shall be less than 20 microns in length; in strip-coil form; thickness less than 0.4369 mm; minimum width 25.4 cm; surface wet stone ground; free of pits, scratches, cracks or similar defects and free of surface oxidation; any surface defects shall be 10 micrometers or less in size; final finish lightly oiled;

(cxxx) Coated flat-rolled products, designated as N-459 and meeting the characteristics described below:

(A) thickness 0.96 mm to 0.98 mm; width 18.75 mm to 18.95 mm; base of SAE 1010 steel with a two-layer lining, the first layer consisting of copper-base alloy powder with chemical composition (percent by weight): tin 9 to 11, lead 9 to 11, phosphorus less than 0.05, ferrous group less than 0.35, and other materials less than 1 percent; meeting the requirements of SAE standard 797 for bearing and bushing alloys; the second layer consisting of lead 33 to 37 percent, aromatic polyester 28 to 32 percent, and other materials less than 2 percent with a balance of polytetrafluoroethylene (PTFE);

(B) thickness 1.21 mm to 1.25 mm; width 19.4 mm to 19.6 mm; base of SAE 1012 steel with lining of copper-base alloy with chemical composition (percent by weight): tin 9 to 11, lead 9 to 11, phosphorus less than 0.05, ferrous group less than 0.35 and other materials less than 1 percent; meeting the requirements of SAE standard 797 for bearing and bushing alloys;

(C) thickness 0.967 mm to 0.98 mm; width 21.5 mm to 21.7 mm; base of SAE 1010 steel with a two-layer lining, the first layer consisting of copper-base alloy powder with chemical composition (percent by weight): tin 9 to 11, lead 9 to 11, phosphorus less than 0.05 percent, ferrous group less than 0.35 and other materials less than 1; meeting the requirements of SAE standard 797 for bearing and bushing alloys; the second layer consisting of (percent by weight) lead 33 to 37, aromatic polyester 28 to 32 and other materials less than 2 with a balance of polytetrafluoroethylene (PTFE);

(D) thickness 0.96 mm to 0.99 mm; width 7.65 mm to 7.85 mm; base of SAE 1012 steel with a two-layer lining, the first layer consisting of copper-based alloy powder with chemical composition (percent by weight): tin 9 to 11, lead 9 to 11, phosphorus less than 0.05, ferrous group less than 0.35 and other materials less than 1; meeting the requirements of SAE standard 797 for bearing and bushing alloys; the second layer consisting of (percent by weight) carbon 13 to 17 and aromatic polyester 13 to 17, with a balance of polytetrafluoroethylene (PTFE);

(E) thickness 0.955 mm to 0.985 mm; width 13.6 mm to 14 mm; base of SAE 1012 steel with a two-layer lining, the first layer consisting of copper-based alloy powder with chemical composition (percent by weight): tin 9 to 11, lead 9 to 11, phosphorus less than 0.05, ferrous group less than 0.35 and other materials less than 1; meeting the requirements of SAE standard 797 for bearing and bushing alloys; the second layer consisting of (percent by weight) lead 33 to 37, aromatic polyester 28 to 32 and other materials less than 2 percent with a balance of polytetrafluoroethylene (PTFE);

(F) flat products 1.22 mm to 1.24 mm in thickness; 20 mm to 20.4 mm in width; consisting of carbon steel coils (SAE 1012) with a lining of sintered phosphorus bronze alloy with chemical composition (percent by weight): tin 5.5 to 7; phosphorus 0.03 to 0.35; lead less than 1 and other non-copper materials less than 1;

(G) thickness 1.8 mm to 1.88 mm; width 43.3 mm to 43.7 mm; base of SAE 1010 steel with a lining of aluminum-based alloy with chemical composition (percent by weight): tin 10 to 15, lead 1 to 3, copper 0.7 to 1.3, silicon 1.8 to 3.5, chromium 0.1 to 0.7 and other materials less than 1; meeting the requirements of SAE standard 788 for bearing and bushing alloys; or

(H) thickness 1.8 mm to 1.88 mm; width 24.2 mm to 24.6 mm; base of SAE 1010 steel with a lining of aluminum alloy with chemical composition (percent by weight): tin 10 to 15, lead 1 to 3, copper 0.7 to 1.3, silicon 1.8 to 3.5, chromium 0.1 to 0.7 and other materials less than 1; meeting the requirements of SAE standard 788 for bearing and bushing alloys;

(cxxxi) Cold-rolled flat-rolled products, designated as N-521; the foregoing hardened and tempered; thickness not over 0.41 mm with tolerance of ±0.20 mm; width not over 13 mm with tolerance of ±0.127 mm; hardness HRC 52 to 54; of C1095 grade with chemical composition (percent by weight): carbon 0.90 to 0.98, silicon 0.15 to 0.35, manganese 0.30 to 0.45, phosphorus not over 0.007, sulfur not over 0.007 and chromium 0.10 to 0.20; surface finish bright polished, free from pits, scratches, rust, cracks, or seams; smooth round edges; edge camber (in each 2438.4 mm length) of less than or equal to 6.35 mm arc; height tolerance of ±0.20 mm;

(cxxxii) Cold-rolled flat-rolled products, designated as N-530; the foregoing with thickness 1.0 mm to 4.0 mm ±0.025 mm; width of 120 mm to 650mm; with chemical composition (percent by weight): carbon 0.70 to 0.80, silicon 0.25 to 0.50, manganese 0.50 to 0.70, phosphorus not over 0.035, sulfur not over 0.035 and chromium 0.30 to 0.40; through-hardened to 40 to 50 HRC with a tolerance of ±2 HRc; flatness/bow across of not more than 0.0015 mm per mm sheet width; with bright finish free from pits, rust, cracks or seams;

(cxxxiii) Zinc-nickel alloy electrolytic coated flat-rolled products, designated as N-437; the foregoing chemically etched black, with a surface brightness equal to or less than 20 L value, a surface gloss equal to or less than 35 G value, black color, thickness 0.3 mm to 2.3 mm, width 700 mm to 1250 mm; with either of the following finishes:

(A) anti-fingerprint, acrylic clear resin and chromate coated; known commercially as “River Zinc';

(B) anti-fingerprint, acrylic clear resin coated and chromate free; known commercially as “River Zinc-FC-Z';

(cxxxiv) Coated flat-rolled products, designated as N-476; the foregoing of width 10 mm to 100 mm; thickness including coatings from 0.11 mm to 0.60 mm; coating thickness of 0.003 mm to 0.005 mm; coating composed of either (I) two evenly applied layers, the first layer consisting of 99 percent zinc, 0.5 percent cobalt and 0.5 percent molybdenum by weight, followed by a layer consisting of phosphate; or (II) three evenly applied layers, the first layer consisting of 99 percent zinc, 0.5 percent cobalt and 0.5 percent molybdenum by weight, followed by a layer consisting of phosphate, and finally a layer consisting of silicate;

(cxxxv) Hot-rolled or hot-rolled and machined bars, designated as N-376; the foregoing of thickness 25 mm to 180 mm; width 76 mm to 359 mm; with chemical composition (percent by weight): carbon 0.3 to 0.4, silicon 0.3 to 0.7, manganese 0.5 to 1.0, nickel 0.5 to 1.0, chromium 0.5 to 1.0 and molybdenum 0.4 to 1.0; certified by the importer to have been produced by electric furnace and vacuum degassed;

(cxxxvi) Hot-rolled bars, designated as N-424; the foregoing not further worked, certified by importer to meet grade B26 boron alloy steel in flat rectangular profile, with sectional dimensions of 212.73 mm width and 6.35 mm thickness; with a tolerance of ±1.5 mm to all cross-sectional dimensions;

(cxxxvii) Bright finish hot-rolled turned and polished steel bars, designated as N-464; the foregoing with diameter 22 to 30 mm; length 5.5 m to 7.5 m; with chemical composition (percent by weight): carbon 0.14 to 0.20, silicon not over 0.20, manganese 0.50 to 0.70, phosphorus not over 0.035, sulfur 0.020 to 0.040, chromium 0.70 to 0.90, nickel 3.10 to 3.50, aluminum 0.020 to 0.050 and copper not over 0.25; bright annealed bar; surface finish free from pits, scratches, cracks, or seams; edge camber not to exceed 1.0 mm per 1.0 m of length; as quenched grain size of 5 to 8 according to ASTMA112;

(cxxxviii) Hot-rolled flat-rolled products, designated as N-316 and meeting the characteristics described below:

(A) dual phase; thickness 1.7 mm to 10.03 mm; width 0.752 m to 1.52 m; yield strength of 1040 MPa to 1270 MPa, tensile strength not more than 1400 MPa, elongation not less than 4 percent; with chemical composition (percent by weight): carbon not over 0.2, manganese not over 1.8, phosphorus not over 0.02, sulfur not over 0.006, silicon not over 0.3, vanadium not over 0.1, titanium not over 0.1 and boron not over 0.005; sometimes referred to as (but not limited to) products known as “Usiphase 1400”;

(B) multiphase; thickness from 2.20 mm to 6.5 mm; width less than 1.56 m; minimum yield strength 580 MPa; tensile strength from 790 MPa to 900 MPa; elongation not less than 13 percent in thicknesses of 2.2 mm to 2.999 mm, elongation not less than 15 percent in thicknesses of 3 to 6.5 mm; with chemical composition (percent by weight): carbon not over 0.08, manganese not over 2.0, phosphorus not over 0.025, sulfur not over 0.01, silicon not over 0.5 and aluminum 0.02 to 0.08, sometimes referred to as (but not limited to) product known as “Usiform 800”;

(C) non-magnetic; with a fully austenitic structure; thickness not over 4.75 mm; width of 1 m to 2 m; length 3 m to 7.62 m; hardness of 180 to 250 BHN (800 MPa); with chemical composition (percent by weight): carbon 1.1 to 1.2, manganese 12 to 13.5, sulfur not over 0.01, phosphorus 0.03 and silicon 0.25 to 0.4; otherwise according to ASTM A 128 Grade B2 for chemistry only; sometimes referred to as (but not limited to) products known as “Creusabro M”;

(D) dual phase; thickness of 1.7 mm to 10.03 mm; width 1.02 m to 1.52 m; yield strength 800 to 950 MPa; tensile strength 1,150 MPa; elongation not less than 5 percent; with chemical composition (percent by weight): carbon not over 0.2, manganese not over 1.2, phosphorus not over 0.02, sulfur not over 0.006 and chromium not over 0.8; sometimes referred to as (but not limited to) products known as “Usiphase 1200”;

(E) dual phase; thickness 1.7 mm to 10.03 mm; width 1.02 m to 1.52 m; minimum yield strength of 800 MPa; minimum tensile strength of 1,050 MPa; with chemical composition (percent by weight): carbon 0.20 to 0.25, manganese 1.1 to 1.4, phosphorus not over 0.025, sulfur not over 0.01, silicon not over 0.20, boron 0.001 to 0.005, titanium 0.02 to 0.05 and chromium 0.10 to 0.30; sometimes referred to as (but not limited to) products known as “Usiphase 1000”;

(F) cut-to-length products; nominal values of properties at 20 °C: tensile strength 1200 N/mm2; yield strength of 900 N/mm2; elongation not less than 12 percent; hardness of 340 to 400 BHN; guaranteed impact properties of 30 J at −20 °C (possessing the transformation induced plasticity or “TRIP” effect); with chemical composition (percent by weight): carbon not over 0.20, chromium 0.85 or more, nominal manganese content 1.4, molybdenum 0.1 or more, nominal nickel content 0.3, sulfur content not over 0.01 and phosphorus not over 0.018; sometimes referred to as (but not limited to) products known as “Creusabro 4000”;

(cxxxix) Hot-rolled flat-rolled products, designated as N-457; the foregoing with thickness 3 mm to 10 mm; width 889 mm to 1,600 mm; minimum yield strength of 792 MPa; minimum tensile strength of 827 MPa, minimum elongation of 12 percent, bendability of 1.3 times thickness; impact toughness of 27.1 J at −40 °C; with chemical composition (percent by weight): carbon not over 0.12, silicon not over 0.10, manganese not over 2.1, phosphorous not over 0.025, sulfur not over 0.010, aluminum not less than 0.015, niobium (columbium) not over 0.09 and titanium not over 0.20;

(cxl) Flat-rolled products clad with tool steel, designated as N-316; the foregoing with nominal chemical composition of cladding layer (percent by weight): carbon 1.5, chromium 12, manganese 0.3, molybdenum 0.7, vanadium 1.0, cladding thickness of 5 mm to 25 mm thick; base material 6 mm to 25 mm thick; width 1,000 mm or over; length of 3,000 mm or over; hardness of tool steel cladding 54-55 HRC, and the hardness of base metal nominally 150 HV; sometimes referred to as (but not limited to) products known as “ABROCLAD.”;

(cxli) Centerless ground stainless steel bars, designated as N-372; the foregoing with length 3.66 m or 4.27 m; chemistry falling between AISI 440B and 440C stainless; diameter 7.000 mm; ground surface; certified by the importer as: produced by air melt (regular electric arc furnace); billets ultrasonically tested, magnetic particle tested and visually inspected, and with micro-cleanliness (oxides and sulfides) K value less than 20 per German standards DIN 50 602;

(cxlii) Stainless steel wire, designated as N-470 and certified by the importer as for piston ring applications only; meeting the characteristics described below:

(A) SMX-90 stainless steel rectangular or shaped wire, with chemical composition (percent by weight): carbon 0.80 to 0.90, silicon 0.15 to 0.30, manganese 0.25 to 0.40, phosphorus not over 0.040, sulfur not over 0.030, chromium 17.0 to18.0, molybdenum 1.00 to 1.25, vanadium 0.08 to 0.15 and remainder of iron; edge camber 10 mm/1 m length maximum; decarburization less than 0.010 mm;

(B) SUS420J2 stainless steel rectangular or shaped wire, with chemical composition (percent by weight): carbon 0.26 to 0.40, silicon not over 1.0, manganese not over 1.0, phosphorus not over 0.040, sulfur not over 0.030, chromium 12.0 to 13.0 and remainder of iron; edge camber 10 mm/1 m length maximum; decarburization less than 0.010 mm; or

(C) SMX-70 stainless steel rectangular or shaped wire, with chemical composition (percent by weight): carbon 0.60 to 0.75, silicon not over 1.0, manganese not over 1.0, phosphorus not over 0.040, sulfur not over 0.040, chromium 11.0 to 13.0 and remainder iron; edge camber 10 mm/1 m length maximum; decarburization less than 0.010 mm;

(cxliii) Tin mill black plate, designated as N-333; the foregoing single reduced; of a width of 600 mm or more and specified in accord with ASTM A-623-00 and ASTM A625-98 as follows:

(A) 65 base weight of a nominal thickness of 0.18 mm, T-1, Type MR, 7C Stone finish, or

(B) 60 base weight of a nominal thickness of 0.168 mm, T-3, Type MR, 5C Matte finish;

(cxliv) Welded stainless pipe and tubes with noncircular cross section, designated as N-319 and entered in an aggregate quantity not to exceed 5 t during the 12-month period beginning on September 1, 2002 or September 1, 2003 or during the period from September 1, 2004 through March 20, 2005, inclusive; either in standard metric sizes of square section measuring 15 mm to 100 mm, or of rectangular section with the smallest side measuring 10 mm to 80 mm and the largest side measuring not over 120 mm; wall thickness 1.5 mm to 5 mm; length not over 4,000 mm; with chemical composition (percent by weight): carbon not over 0.07, manganese not over 2.0, silicon not over 1.0, phosphorus not over 0.04, sulfur not over 0.03, chromium not over 20.0, nickel not over 12.0 and remainder iron;

(cxlv) Calorized and ceramic-coated welded pipes, designated as N-449; the foregoing certified by the importer to meet specification JIS-G3445 STK 400; with chemical composition (percent by weight): carbon 0.25, phosphorus not over 0.04 and sulfur not over 0.04; aluminum diffused on both surfaces of pipe (more than 10 percent aluminum by weight) and ceramic-coated on both surfaces of pipe in silica (SiO2); aluminum diffusion on both surfaces of pipe 0.4 to 0.8 mm;

(cxlvi) Hot-rolled bars and rods, designated as N-339; the foregoing of other alloy steel; not further worked than hot rolled; of rectangular cross section; with bevels on either one or two corners; aluminum killed; fine-grained; width from 195 mm to 490 mm; thickness from 12 mm to 65 mm; certified by the importer to have mass per unit length from 20 kg/m to 190 kg/m, excluding double-bevel flats of a width of 330 mm and 406 mm; the foregoing designated as N-339;

(cxlvii) Hot-rolled or forged bars, designated as N-354 and entered in an aggregate quantity not to exceed 100 t during the 12-month period beginning on September 1, 2002 or September 1, 2003 or during the period from September 1, 2004 through March 20, 2005, inclusive; with chemical composition (percent by weight): carbon 0.17 to 0.23, chromium 0.90 to 1.20, molybdenum 0.90 to 1.10 and vanadium 0.60 to 0.80; hardened and tempered with oxidized surface; certified by the importer to meet specifications in BS1506 Grade 681-820, Werkstoff No.1.7729, AFNOR 20 CrMoVTiB4-10; sometimes known commercially as “Durehete 1055”;

(cxlviii) Rectangular bars, designated as N-424; not further worked than hot-rolled, meeting the characteristics described below (with a tolerance of ±1.5 mm applicable on all cross-sectional dimensions):

(A) thickness 31.75 mm, width 38.1 mm, grade ASTM A 36 and containing by weight 0.25 percent or more but not over 0.60 percent carbon;

(B) thickness 44.45 mm, width 50.8 mm, grade ASTM A36 and containing by weight 0.25 percent or more but not over 0.60 percent carbon;

(C) thickness 57.15 mm, width 76.2 mm, grade ASTM A36 and containing by weight 0.25 percent or more but less than 0.60 percent carbon;

(D) thickness 25.4 mm or more, width 27 mm or more but less than 152.4 mm, grade C1018 and containing by weight less than 0.25 percent carbon;

(E) freecutting AISI grade C11L17, width 127.0 mm and thickness 38.1 mm;

(F) grade SAE4140, width 76.2 mm, thickness 63.5 mm, hardened and tempered and certified by the importer to have been magnetic particle inspected for cracks;

(G) thickness 76.2 mm, width 114.3 mm, grade ASTM A36 and containing by weight 0.25 percent or more but less than 0.60 percent carbon;

(H) grade ASTM A 36, containing by weight 0.25 percent or more but less than 0.60 percent carbon, thickness 44.5 mm and width 63.5 mm;

(I) grade ASTM A36, containing by weight 0.25 percent or more but less than 0.60 percent carbon, thickness 31.75 mm and width 50.8 mm;

(J) grade ASTM A36, containing by weight 0.25 percent or more but less than 0.60 percent carbon, thickness 63.5 mm and width 88.9 mm;

(K) grade SAE 4340, width 69.85 mm, thickness 44.45 mm and annealed; or

(L) grade ASTM A36, containing by weight 0.25 percent or more but less than 0.60 percent carbon, thickness 63.5 mm and width 76.2 mm;

(cxlix) Freecutting bars, designated as N-425; the foregoing of SAE/AISI grade C1144 or equivalent; not further worked than hot-rolled; in rectangular flat profile; width 61.12 mm and thickness 14.27 mm; with a tolerance of ±1.5 mm on cross sectional dimensions;

(cl) Hot-rolled bars, designated as N-464; the foregoing turned and polished; bright annealed; surface finish free from pits scratches, cracks, or seams; edge camber not to exceed 1 mm per meter length; and grain size of 5 to 8 according to ASTMA112; length 5.5 m to 7.5 m; and meeting the characteristics described below:

(A) diameter 22 mm or 30 mm; with chemical composition (percent by weight): carbon 0.22 to 0.29, silicon content not over 0.40, manganese 0.60 to 0.90, phosphorus less than or equal to 0.035, sulfur 0.020 to 0.035, chromium 0.90 to 1.20 and molybdenum 0.15 to 0.30; or

(B) diameter 25 mm to 50 mm; with chemical composition (percent by weight): carbon 0.14 to 0.19, silicon 0.15 to 0.40, manganese 0.40 to 0.60, phosphorus not over 0.035, sulfur 0.020 to 0.35, chromium 1.50 to 1.80, molybdenum 0.25 to 0.35, nickel 1.40 to 1.70, aluminum not over 0.020 and nitrogen not over 0.008;

(cli) Galvanized cold-formed angles, designated as N-495 and entered in an aggregate quantity not to exceed 300 t during the 12-month period beginning on September 1, 2002 or September 1, 2003 or during the period from September 1, 2004 through March 20, 2005, inclusive; the foregoing with smooth in-line galvanized zinc coating with controlled mass of 100 g/m² minimum applied after forming with the zinc coating further passivated to resist white rust; not further cold worked; not manufactured from pre-galvanized or Galvalume strip; in lengths from 6.096 m to 12.192 m; certified by the importer to meet OneSteel Product Specification TS100; with included angle between the sides of an angle 90 degrees, with tolerances stated: (I) where shorter leg length is less than 50.8 mm, ±2.0 degrees, or (II) where shorter leg length is greater than 50.8 mm but less than 76.2 mm, ±1.5 degrees or (III) where shorter leg length is greater than 76.2 mm, ±1.0 degree; maximum angle of twist is 1 degree per meter; with base steel material: fully killed, continuous cast, fine grain, with chemical composition (maximum percent by weight): carbon 0.20, manganese 1.60, silicon 0.10, aluminum 0.10, phosphorus 0.040, sulfur 0.030 and carbon equivalent of no more than 0.39; angles produced from flat product with uniform thickness; in the following combinations of sizes and strength: (I) equal angles: (i) 31.8 mm x 31.8 mm to 50.8 mm x 50.8 mm and thickness of 2.38 mm and yield strength of 350 MPa; (ii) 38.1 mm x 38.1 mm to 152.4 mm x 152.4 mm and thickness of 3.96 mm, 4.77 mm or 5.95 mm and minimum yield strength of 450 MPa; (iii) 76.2 mm x 76.2 mm to 152.4 mm x 152.4 mm and thickness of 7.95 mm and minimum yield strength of 400 MPa; or (II) unequal angles: (iv) 76.2 mm x 50.8 mm to 152.4 mm x 101.6 mm and thickness of 3.96 mm, 4.77 mm or 5.95 mm and minimum yield strength of 450 MPa; (v) 101.6 mm x 76.2 mm to 152.4 mm x 101.6 mm and thickness of 7.95 mm and minimum yield strength of 400 MPa;

(clii) Galvanized cold-formed flats, designated as N-495; the foregoing with smooth zinc coating with controlled mass of 100 g/m² minimum applied after forming with the zinc coating further passivated to resist white rust; not further cold-worked beyond cold forming; not manufactured from pre-galvanized strip; length 6.096 m; certified by the importer to meet OneSteel Product Specification TS100; in the following combinations of size and strength: (i) 50.8 mm to 304.9 mm with thicknesses only of 3.96 mm, 4.77 mm or 5.95 mm and yield strength of 400 MPa; (ii) 152.4 mm to 304.8 mm with thickness only of 7.95 mm and yield strength of 350 MPa; with the following tolerances: for 50.8 mm to less than 101.6 mm, width tolerance of ±0.75 mm; for 101.6 mm to 203.2 mm, width tolerance of ±1.0 mm; and for greater than 203.2 mm, width tolerance of ±1.5 mm; base steel material: fully killed, continuous cast, fine grain, with chemical composition (maximum percent by weight): carbon 0.20, manganese 1.60, silicon 0.10, aluminum 0.10, phosphorus 0.040, sulfur 0.030 and carbon equivalent no more than 0.39; produced from flat-rolled with uniform thickness;

(cliii) Hot-rolled round bars, designated as N-497; the foregoing commercially described as Special Bar Quality; bloom cast; either cut-to-length with diameter 25.4 mm to 76.2 mm or in coils with diameter 25.4 mm to 50.8 mm; with one of the following chemical compositions (percent by weight):

(A) carbon 0.45 to 0.52, silicon not over 0.05, manganese 0.70 to 1.00, phosphorus not over 0.03, sulfur 0.030 to 0.65 and vanadium 0.08 to 0.13 (known as Alloy ZF49); certified by the importer as processed using bloom caster;

(B) carbon 0.33 to 0.37, silicon not over 0.035, manganese 0.50 to 0.80, phosphorus not over 0.03, sulfur 0.02 to 0.035 and copper not over 0.25 (known as Alloy ZF34C); certified by the importer as processed using bloom caster;

(C) carbon 0.12 to 0.17, manganese 0.65 to 0.95, silicon 0.15 to 0.35, phosphorus not over 0.030, sulfur 0.02 to 0.04, chromium 1.0 to 1.3, molybdenum 0.15 to 0.25, boron 0.001 to 0.003 and aluminum 0.02 to 0.05 (known as ZF Grade 15CrMo5); certified by the importer as produced using bloom caster and basic oxygen process;

(D) carbon 0.13 to 0.18, silicon not over 0.040, manganese 1.0 to 1.3, phosphorus not over 0.025, sulfur 0.020 to 0.035, chromium 0.80 to 1.10, molybdenum not over 0.08, nickel not over 0.030, aluminum 0.02 to 0.05, boron 0.001 to 0.003; copper not over 0.30 (known as Alloy ZF6); certified by the importer as processed using bloom caster; or

(E) carbon 0.17 to 0.23, manganese 0.60 to 1.00, phosphorus not over 0.020 and silicon 0.15 to 0.35 (known as Alloy SCR 420); certified by the importer as produced using bloom caster and basic oxygen process;

(cliv) Stainless steel bars, designated as N-378; the foregoing of alloy iron-chrome-aluminum round wire on spools or in coils; with chemical composition (percent by weight): carbon not over 0.08, silicon not over 0.70, manganese not over 0.50, chromium 20.50 to 23.50, aluminum 5.0 to 6.0 and balance iron; sometimes referred to as (but not limited to) products known as “Kanthal APM”;

(clv) Carbon or alloy steel forged fittings, designated as X-063 and entered in an aggregate quantity not to exceed 3,000 t during the 12-month period beginning on September 1, 2002 or September 1, 2003 or during the period from September 1, 2004 through March 20, 2005, inclusive; the foregoing with chemical composition (percent by weight): manganese-to-carbon ratio greater 4:1, carbon 0.18 to 0.23; sulfur not over 0.030 and carbon equivalent of not over 0.43; NACE MR-0175/99 guaranteed; heat treated; impact tested; certified by the importer as produced to ASTM A105N;

(clvi) Flat bars of non-alloy freecutting steel, designated as N-424; the foregoing not further worked than cold drawn; having either (I) thickness from 20 mm to 25.4 mm and width 30 mm to 76.2 mm or 165.1 mm to 380 mm or (II) thickness of 50.8 mm to 115 mm and width of 30 mm to 76.2 mm or 165.1 mm to 380 mm; meeting ASTM A29/A108;

(clvii) Cold-rolled flat-rolled products for producing flux-cored welding wires, designated as N-316 and entered in an aggregate quantity not to exceed 15,000 t during the 12-month period beginning on September 1, 2002 or September 1, 2003 or during the period from September 1, 2004 through March 20, 2005, inclusive; tensile strength 276 MPa to 345 MPa; minimum elongation in (50.8 mm gauge length) of 35 percent, hardness 45 HRB; certified by the importer as meeting quality assurance requirements of ASME Boiler & Pressure Vessel Code Section III, 10 CFR 50—Appendix B, ANSI N 45.2, 10 CFR 21 and ISO 9002 (as in effect on the first day of the 12-month period beginning on September 1, 2002 or September 1, 2003 or the period from September 1, 2004 through March 20, 2005, inclusive); meeting the characteristics described below:

(A) thickness of 0.483 mm, 0.635 mm, 0.762 mm, 0.813 mm, 1.02 mm, or 1.27 mm (thickness tolerance of ±3 percent); width of 228 mm to 305 mm; with chemical composition (percent by weight): carbon 0.005 to 0.015, manganese 0.23 to 0.43, phosphorus not over 0.015, sulfur not over 0.010, silicon not over 0.025, aluminum not over 0.030, copper not over 0.040, nickel not over 0.080, chromium not over 0.070, niobium (columbium) not over 0.010, vanadium not over 0.010, titanium not over 0.010, molybdenum not over 0.020, nitrogen not over 0.0045, zirconium not over 0.020, tin not over 0.010 and calcium not over 0.003;

(B) thickness of 0.483 mm, 0.635 mm, 0.762 mm, or 1.27 mm (thickness tolerance of ±3 percent); width of 228 mm to 305 mm; with chemical composition (percent by weight): carbon 0.050 to 0.080, manganese 0.20 to 0.50, phosphorus not over 0.015, sulfur not over 0.10, silicon not over 0.025, aluminum not over 0.030, copper not over 0.040, niobium (columbium) not over 0.010, vanadium not over 0.010, titanium not over 0.010 and nitrogen not over 0.005; or

(C) thickness of 0.483 mm or 0.762 mm (thickness tolerance of ±3 percent); width of 228 mm to 305 mm; with chemical composition (percent by weight): carbon 0.020 to 0.040, manganese 0.20 to 0.40, phosphorus not over 0.015, sulfur not over 0.010, silicon not over 0.030, aluminum not over 0.040, copper not over 0.10, nickel not over 0.080, chromium not over 0.080, niobium (columbium) not over 0.010, vanadium not over 0.010, titanium not over 0.010, molybdenum not over 0.020, boron not over 0.0001, nitrogen not over 0.005, arsenic not over 0.003, lead 0.001, tin not over 0.002, antimony not over 0.001 and with combined chromium, nickel, and molybdenum not over 0.15;

(clviii) Cold-rolled flat-rolled low-carbon continuous-annealed products, designated as N-364: the foregoing in coils; with an electron beam texturing (EBT) finish; hardness of 50 HRB to 65 HRB; surface carbon after power wash of 4 mg/m² per side maximum; nitrogen not over 0.005 percent by weight; center line thickness tolerance of ±3 percent versus approximate value; and otherwise according to grade ASTM 1008;

(clix) Continuous cast, continuous annealed, temper rolled flat-rolled products, designated as N-381 and entered in an aggregate quantity not to exceed 10,000 t during the 12-month period beginning on September 1, 2002 or September 1, 2003 or during the period from September 1, 2004 through March 20, 2005, inclusive; the foregoing with chemical composition (percent by weight): carbon 0.015 to 0.06, manganese 0.10 to 0.40, phosphorus not over 0.020, sulfur not over 0.020, aluminum 0.020 to 0.070 and nitrogen not over 0.008; hardness of 30 RW30T to 50 RWH30t; yield strength of 138 MPa to 241 MPa; grain size a minimum of 10 and a maximum of 6; grain structure equiaxed and uniform; angular and plate shaped inclusions and carbides not allowed; segregation of impurities and second phases not allowed; surface roughness not to exceed a maximum of 1.24 micrometers in both longitudinal and transverse direction; surface carbon, iron fines, or other smut not easily removed by alkaline solution not allowed; coil welds not allowed anywhere in the coil; thickness 0.020 mm or more but not over 0.045 mm (tolerance of ±0.0381 mm);

(clx) Cold-rolled foam cutting flat-rolled products, designated as N-387; the foregoing with fine grain structure (grain size number greater than 8 according to ASTM method); tensile strength is 1200 to 1650 N/mm²; flatness (crosswise) 0.1 percent of the width; straightness 0.6 mm/m; roughness to 0.6 mm; thickness from 0.2 mm to 3.5 mm; width 5 mm to 410 mm; with chemical composition (percent by weight): carbon 0.67 to 0.83, silicon 0.12 to 0.38, manganese 0.36 to 0.54, phosphorus not over 0.025, sulfur not over 0.020, chromium 0.18 to 0.30, aluminum 0.020 to 0.040 and nickel not over 1; certified by the importer as having smooth and rounded (SK3) back and having undergone repeated special annealing operations (automatic annealing under protection gas (no edge decarburisation));

(clxi) Cold-rolled flat-rolled drawing products, designated as N-414 and entered in an aggregate quantity not to exceed 20,000 t during the 12-month period beginning on September 1, 2002 or September 1, 2003 or during the period from September 1, 2004 through March 20, 2005, inclusive; the foregoing of carbon steel referenced in ASTM A1008; thickness 0.381 mm to 2.286 mm and width not over 1828.8 mm, with thickness tolerance corresponding to one-half of ASTM A568; camber tolerance corresponding to one-half of ASTM A568; flatness tolerance corresponding to one-half of ASTM A568; meeting any of the following characteristics: (I) products known as “Type A” drawing steel with chemical composition (percent by weight): carbon not over 0.08, manganese not over 0.50, phosphorus not over 0.02, aluminum 0.01 or more and sulfur not over 0.02; or (II) products known as “Type B” drawing steel with chemical composition (percent by weight): carbon 0.02 to 0.08, manganese not over 0.50, phosphorus not over 0.03, aluminum 0.02 or more and sulfur not over 0.02; certified by the importer to be slit and/or blanked and painted for use in the manufacture of residential laundry, cooking and dishwashing appliances;

(clxii) Cold-rolled flat-rolled carbon products, designated as N-414 and in an aggregate quantity not to exceed 15,000 t during the 12-month period beginning on September 1, 2002 or September 1, 2003 or during the period from September 1, 2004 through March 20, 2005, inclusive; the foregoing referenced in ASTM A424; designated for porcelain enameling; thickness 0.584 mm to 1.219 mm; width not over 1828.8 mm; meeting any of the following characteristics: (I) products known as “TYPE 1” with carbon not over 0.008 percent by weight, designated for direct cover coat enameling or for ground and cover coat enameling; (II) products known as “TYPE 2” with carbon not over 0.05 percent by weight, designated for ground or cover coat enameling; (III) products known as “TYPE 3” of interstitial-free cold-rolled steel with maximum carbon content 0.02 percent by weight, designated for ground or cover coat enameling; all the foregoing certified by the importer to be slit and/or blanked and porcelain enameled utilizing either a powder porcelain or wet porcelain system for use in the manufacture of residential laundry and cooking appliances;

(clxiii) Cold-rolled flat-rolled products, designated as N-427; the foregoing with thickness 1.5 to 2.0 mm (tolerance −0/+0.06 mm); width of 150mm (tolerance −0/+0.02 mm); ring width 150 mm (tolerance −0.5/+0 mm); produced with reference to DIN Specification SEW 093; with chemical composition (percent by weight): carbon 0.05 to 0.10, manganese 0.70 to 1.30, silicon less than 0.40, phosphorus less than 0.020, sulfur less than 0.005, aluminum 0.025 to 0.075, niobium (columbium) 0.025 to 0.070 and titanium less than 0.11; tensile strength in N/mm² 680-800; yield strength in N/mm² min 630; minimum elongation 10 percent;

(clxiv) Cold-rolled flat-rolled products, designated as N-444; meeting the characteristics described below:

(A) of grade ZSTE 630; with chemical composition (percent by weight): carbon 0.05 to 0.09, silicon 0.20 to 0.35, manganese 0.80 to 1.00, phosphorus not over 0.02, sulfur not over 0.005, aluminum 0.03 to 0.07, chromium not over 0.15, titanium 0.06 to 0.10 and niobium (columbium) 0.03 to 0.06; number 3 slit edge, dull or bright surface, in coils; thickness 1.50 mm to 3.00 mm; width 50.00 mm to 480 mm; thickness tolerance. 0.08 mm;

(B) of grade ZSTE 800; with chemical composition (percent by weight): carbon 0.05 to 0.09, silicon 0.20 to 0.35, manganese 0.80 to 1.00, phosphorus not over 0.02, sulfur not over 0.005, aluminum 0.03 to 0.07, chromium not over 0.15, titanium 0.06 to 0.10 and niobium (columbium) 0.03 to 0.06; tensile strength 820 to 950 N/mm²; yield strength 800 N/mm² or more; elongation A80 9 percent or more; number 3 slit edge, dull or bright surface, in coils; thickness 1.00 mm to 3.00 mm; width 50.00 mm to 480 mm; thickness tolerance 0.06 mm;

(C) of grade RAWAEL 90; with chemical composition (percent by weight): carbon 0.05 to 0.09, silicon 0.20 to 0.35, manganese 0.80 to 1.00, phosphorus not over 0.02, sulfur not over 0.005, aluminum 0.03 to 0.07, chromium not over 0.15, titanium 0.06 to 0.10 and niobium (columbium) 0.03 to 0.06; tensile strength 850 to 950 N/mm²; yield strength min. 750 N/mm²; elongation A80 min. 7 percent, number 3 slit edge, dull or bright surface, in coils; thickness 1.30 mm to 3.50 mm; width 30.00 mm to 480 mm; thickness tolerance 0.08 mm; or

(D) texture cold-rolled products (“SORBITEX”); thickness 0.099 mm to 1.5228 mm; width 2.9959 mm to 199.75 mm; with chemical composition (percent by weight): carbon 0.76 to 0.96, silicon 0.1 to 0.35, manganese 0.3 to 0.6, phosphorus less than 0.025, sulfur less than 0.02, aluminum less than 0.06, chromium less than 0.3, nickel less than 0.2, copper not over 0.2; tensile strength 1,689 MPa to 2,516 MPa;

(clxv) Cold-rolled flat-rolled products, designated as X-010 and entered in an aggregate quantity not to exceed 86 t during the 12-month period beginning on September 1, 2002 or September 1, 2003 or during the period from September 1, 2004 through March 20, 2005, inclusive; the foregoing of grade B55; with chemical composition (percent by weight): carbon 0.50 to 0.55, silicon 0.15 to 0.30, manganese 0.70 to 0.90, sulfur not over 0.025, phosphorus not over 0.025 and chromium 0.13 to 0.23; hardened and tempered to a bainitic structure; hardness 33 HRC to 35 HRC; finish to be consistent on both sides and across production batches; to accept X3 die bend without fracture; flatness 0.025 mm max per 25.4 mm of width and straightness 0.75mm max in 760 mm; reverse camber 0.075 mm in 760 mm; steel cleanness to ASTME45 CT4-5; grain size 5-8 to ASTME 112; thickness 1.0 mm or less; width 25.4 mm or less;

(clxvi) Cold-rolled flat-rolled products, designated as X-099; the foregoing high strength low alloy; continuous annealed; of grade 50; thickness 1.57 mm to 1.68 mm , per ASTM A1008 HSLAS-F; width over 600 mm;

(clxvii) Flat-rolled galvannealed products, designated as N-346 and entered in an aggregate quantity not to exceed 80,000 t during the 12-month period beginning on September 1, 2002 or September 1, 2003 or during the period from September 1, 2004 through March 20, 2005, inclusive; the foregoing vacuum degassed, interstitial-free with gauge ranging from 0.61 mm to 2.10 mm and width from 830 mm to 1830 mm; with chemical composition (percent by weight): carbon not over 0.02, silicon 0.06 to 0.10, manganese not over 0.40, phosphorus not over 0.02, sulfur not over 0.02, aluminum 0.01 or more, copper not over 0.20, nickel not over 0.20, chromium not over 0.15, molybdenum not over 0.06 and titanium not over 0.30; yield strength ranging from 120 to180 N/mm2 and tensile strength of 350 N/mm² maximum;

(clxviii) Flat-rolled coated products, designated as N-406 and entered in an aggregate quantity not to exceed 9,550 t during the 12-month period beginning on September 1, 2002 or September 1, 2003 or during the period from September 1, 2004 through March 20, 2005, inclusive; the foregoing in coils; with G-30 hot dipped galvanized coating ASTMA-653CS type B; less than 3.25 mm in thickness; with chemical composition (percent by weight): carbon 0.06 to 0.14 and sulfur not over 0.025; lightly oiled, no chemical treatment of finished surface. Rockwell B hardness 40 to 55; meets ASTM E290-87 bend test; cut edges cropped back to gauge, yield strength 240 to 310 MPa; elongation in 50 mm not less than 30 percent; and tensile strength 380 to 450 MPa; certified to be used in the production of welded pipe or tube;

(clxix) Flat-rolled products, designated as N-420 and entered in an aggregate quantity not to exceed 4,000 t during the 12-month period beginning on September 1, 2002 or September 1, 2003 or during the period from September 1, 2004 through March 20, 2005, inclusive; the foregoing with thickness 0.70 mm to 0.80 mm (±0.04 mm); width 1,650 mm or more (−0 mm/+4 mm); with chemical composition (percent by weight): carbon not over 0.01, sulfur 0.012 to 0.013, manganese 0.10 to 0.13 and phosphorus 0.006 to 0.014; yield strength of 155 to 166 MPa; tensile strength of 309 to 317 MPa; a minimum mechanical elongation of 46 percent; surface finish must be free from pits scratches, rust, slivers, and laminations for automotive critical exposed surface application;

(clxx) Hot-dipped galvanized flat-rolled products, designated as N-436; the foregoing with chemical composition (percent by weight): boron 0.0012 to 0.0030 and carbon 0.026 to 0.050; Rockwell hardness from 50 to 65; a thickness over 0.248 mm but not over 0.330 mm;

(clxxi) Electrogalvanized flat-rolled products, designated as N-465; the foregoing drawing quality special killed steel, according to ASTM A879; with zinc coating weight from 20 g/m² to 70 g/m²; thickness of 2.06 mm and greater; width 762 mm to 1,730 mm; with chemical composition (percent by weight): carbon not over 0.08, manganese not over 0.35, phosphorus not over 0.02, sulfur not over 0.025, aluminum 0.02 or more, copper not over 0.20, nickel not over 0.20, chromium not over 0.15 and molybdenum not over 0.06; yield strength ranging from 140 to 200 N/mm²; tensile strength of 350 N/mm² maximum;

(clxxii) Flat-rolled coated products, designated as N-469 and meeting the characteristics described below:

(A) Hot-dip galvanized zinc coated flat-rolled products, the foregoing with a mainly ferritic-bainitic matrix and with dispersed residual austenite islands; thickness 0.7 mm to1.75 mm; width 800 mm to 1600 mm; with chemical composition (percent by weight): carbon 0.06 to 0.24, silicon not over 2.0, manganese 1.2 to 2.0, phosphorus not over 0.04, sulfur not over 0.015, aluminum not over 2.0, chromium not over 0.5 and boron not over 0.005; yield strength of 380 to 500 MPa, tensile strength 600 MPa or more; elongation over 24 percent;

(B) Electrogalvanized zinc coated hot-rolled complex phase products meeting the characteristics described below:

(I) with extremely fine microstructure of ferrite, bainite and martensite; thickness 1.5 mm to 2.99 mm; width 970 mm to 1250 mm; with chemical composition (percent by weight): carbon not over 0.18, silicon not over 0.8, manganese not over 2.2, phosphorus not over 0.025, sulfur not over 0.01, chromium not over 0.6, niobium (columbium) not over 0.08; titanium not over 0.18 and molybdenum not over 0.40; yield strength 800 MPa or more; tensile strength from 800 to 1,130 MPa; an elongation percentage over 12;

(II) with mainly ferritic-bainitic matrix and with dispersed residual austenite islands; thickness 0.7 mm to 1.75 mm; width 800 mm to 1600 mm; with chemical composition (percent by weight): carbon 0.06 to 0.24, silicon not over 2.0, manganese 1.2 to 2.0, phosphorus not over 0.04, sulfur not over 0.015, aluminum not over 2.0, chromium not over 0.5 and boron not over 0.005; yield strength of 380 to 500 MPa; tensile strength 600 MPa or more; elongation percentage over 24;

(III) with a very finely tuned ferrite, bainite and retained austenite content; thickness 1.6 mm to 2.75 mm; width 1,100 mm to 1,300 mm; with chemical composition (percent by weight): carbon not over 0.22, silicon not over 1.0, manganese not over 1.80, phosphorus not over 0.02, sulfur not over 0.01, aluminum not over 1.5, chromium plus molybdenum not over 0.5 and niobium (columbium) not over 0.05; yield strength 500 MPa or more; tensile strength 700 to 870 MPa; elongation percentage over 25;

(IV) partial martensitic with a soft ferritic matrix and with dispersed islands of a second hard phase, mainly martensitic; thickness 0.8 mm to 1.6 mm; width 800 mm to 1,400 mm; with chemical composition (percent by weight): carbon 0.10 to 0.18, silicon not over 0.8, manganese 1.5 to 2.0, phosphorus not over 0.05, sulfur not over 0.03, aluminum 0.02 to 0.05, chromium not over 0.6 and titanium 0.08 to 0.15; yield strength 600 to 760 MPa; tensile strength 800 MPa or more; elongation percentage over 10;

(C) hot-dipped galvanized hot-rolled complex phase products with an extremely fine microstructure of ferrite, bainite and martensite content; thickness 2.0 mm to 3.0 mm; width 910 mm to 1390 mm; with chemical composition (percent by weight): carbon not over 0.18, silicon not over 0.8, manganese not over 2.2, phosphorus not over 0.025, sulfur not over 0.01, chromium not over 0.6, niobium (columbium) not over 0.08, titanium not over 0.18 and molybdenum not over 0.40; yield strength 800 MPa or more; tensile strength 800 to 1,130 MPa; elongation percentage over 12;

(D) hot-dipped galvanized complex phase products with an extremely fine microstructure of ferrite, bainite and martensite content; thickness 1.5 mm to 2.99 mm; width 970 mm to 1250 mm; with chemical composition (percent by weight): carbon not over 0.18, silicon not over 0.8, manganese not over 2.2, phosphorus not over 0.025, sulfur not over 0.01, chromium not over 0.6, niobium (columbium) not over 0.08, titanium not over 0.18 and molybdenum not over 0.40; yield strength 800 MPa or more; tensile strength 800 to 1,130 MPa; elongation percentage over 12;

(E) hot-dipped galvanized hot-rolled zinc coated martensitic phase products with a finely tuned microstructure of ferrite and martensite content; thickness 1.5 mm to 3.5mm; width 1,000 mm to 1,400 mm; with chemical composition (percent by weight): carbon not over 0.18, silicon not over 1.0, manganese not over 2.0, phosphorus not over 0.02, sulfur not over 0.02, chromium not over 1.0 and niobium (columbium) plus titanium not over 0.18; yield strength 750 MPa or more; tensile strength 1,000 to 1,450 MPa; elongation percentage over 8;

(F) electrogalvanized zinc coated hot-rolled dual phase products with a finely tuned ferrite, bainite and martensite content; thickness 1.6 mm to 2.75 mm; width 1,100 mm to 1,300 mm; with chemical composition (percent by weight): carbon not over 0.12, silicon not over 1.50, manganese not over 1.50, phosphorus not over 0.06, sulfur not over 0.01, aluminum not over 0.015, chromium plus molybdenum not over 1.0 and boron not over 0.005; with the following properties: yield strength of 310 to 450 MPa; tensile strength 530 MPa or more; elongation percentage over 24;

(G) electrogalvanized zinc coated hot-rolled martensitic phase products with a finely tuned microstructure of ferrite and martensite content; thickness 1.5 mm to 3.5 mm; width 1,000 mm to 1,400 mm; with chemical composition (percent by weight): carbon not over 0.18, silicon not over 1.0, manganese not over 2.0, phosphorus not over 0.02, sulfur not over 0.02, chromium not over 1.0 and niobium (columbium) plus titanium not over 0.18; with the following properties: yield strength 750 MPa or more; tensile strength 1,000 to 1,450 MPa; elongation percent over 8; or

(H) hot-dipped galvanized zinc coated partial martensitic products, designated as N-469; the foregoing with a soft ferritic matrix and with dispersed islands of a second hard phase, mainly martensitic; suitable for automotive components such as impact beams, bumpers and body reinforcements; thickness 0.8 mm to 1.6 mm; width 800 mm to 1,400 mm; with chemical composition (percent by weight): carbon 0.10 to 0.18, silicon not over 0.8, manganese 1.5 to 2.0, phosphorus not over 0.05, sulfur not over 0.03, aluminum 0.02 to 0.05, chromium not over 0.6 and titanium 0.08 to 0.15; with the following properties: yield strength of 600 to 760 MPa; tensile strength 800 MPa or more and an elongation percentage over 10;

(clxxiii) Hot-rolled dual phase flat-rolled products of other alloy steel, designated as X-146 and entered in an aggregate quantity not to exceed 1,000 t; the foregoing sometimes referred to as (but not limited to) products known as “RAGALLITEC DPF”; tensile strength 700 to 1000 MPa; thickness 0.9 mm to 1.6 mm; width 750 mm or more but not over 1250 mm;

(clxxiv) Hot-rolled flat-rolled products, in coils, designated as N-300 or N-316 and entered in an aggregate quantity not to exceed 10,000 t during the 12-month period beginning on September 1, 2002 or September 1, 2003 or during the period from September 1, 2004 through March 20, 2005, inclusive; meeting the characteristics described below:

(A) produced to specification API 5L Grade X-70; with chemical composition (percent by weight): carbon 0.02 to 0.05, manganese 1.10 to 1.35, phosphorus not over 0.008, sulfur not over 0.0010, silicon 0.150 to 0.250, copper not over 0.15, nickel not over 0.10, chromium not over 0.07, molybdenum not over 0.02, nitrogen not over 0.008, arsenic not over 0.20, aluminum 0.020 to 0.040, tin not over 0.020, vanadium 0.035 to 0.045, niobium (columbium) 0.025 to 0.035, titanium 0.005 to 0.015 and calcium 0.0002 to 0.0050; physical properties: yield ratio of less than 0.91; factor formula of C + Mn/5 + V + 2(Nb); factor range of 35 to 42; gauge range of 6.35 mm nominal up to and including 12.70 mm nominal; width 1,032.027 mm or more but not over 1,735.38 mm; gauge tolerance one-half the ASTM tolerance, except 40 meters both ends to be three-fourths the ASTM per A568-96, Table 4 and A635-96, Table 4; width tolerance: plus 19.05 mm, minus 0.00 mm, approximate value plus 10.16 mm (untrimmed); crown tolerance: approximate value 0.0508 mm, (range min. −0.0127 mm/max 0.0762 mm); inside diameter of 762.0 mm; outside diameter of a maximum of 1,828.8 mm, not to exceed 20,901.89 kg coil weight; other properties: must be calcium treated with a minimum calcium to sulfur ratio of 2:1; all heats must be vacuum degassed; oxygen content must be less than 25 ppm; steel produced shall be suitable for hydrogen-induced-cracking-resistant applications as determined by NACE standard TM 0284-96, Solution A; or

(B) API grade x70 hydrogen induced cracking resistant (NACE) products, tensile properties certified by the importer to be per 70 for the pipe with coil tensile properties (approximate values): yield strength 485 to 605, tensile strength 570 to 690, elongation not less than 24 percent and guaranteed resilience 27.8 J at −10 °C; thickness 2.54 mm to 15.24 mm; width 1.02 m to 2.01 m; with chemical composition (percent by weight): carbon not over 0.15, manganese not over 1.3, phosphorus not over 0.018, sulfur not over 0.002, silicon not over 0.35, aluminum not over 0.06, copper not over 0.3, nickel not over 0.3, chromium not over 0.25 and vanadium not over 0.08; with a hydrogen-induced cracking guarantee with an average of 9 cuts of NACE solution A pH3: crack length ratio less than 15 percent, crack thickness ratio less than 5 percent and crack sensitivity ratio less than 1.5 percent; and NACE solution B pH 5: crack length ratio less than 10 percent, crack thickness ratio less than 3 percent and crack sensitivity ratio less than 1 percent;

(clxxv) Hot-rolled flat-rolled products, designated as N-310; the foregoing of grade SAE 1095; fine grain with no more than 1 percent gauge thickness decarburisation level; thickness not over 5.3 mm; width not over 321.1 mm; with chemical composition (percent by weight): carbon 0.90 to1.030, silicon 0.15 to 0.30, manganese 0.30 to 0.50, phosphorus not over 0.04, sulfur not over 0.015, chromium 0.15 to 0.30 and nickel not over 0.15; carbides fully spheroidized, having greater than 90 percent of carbides;

(clxxvi) Hot-rolled flat-rolled products, in coil, designated as N-316; the foregoing of API grade X56 high resilience steel; thickness 1.22 cm to 2.5 cm; width 1.65 m to 2.01 m; tensile properties certified by the importer to meet requirements of X56 (yield strength approximate value 460 MPa, tensile strength approximate value 570 MPa, elongation aimed at not less than 36 percent and KCV aimed at 79 J at −40 °C); with chemical composition (percent by weight): carbon not over 0.1, manganese not over 1.4, phosphorus not over 0.025, sulfur not over 0.01, silicon not over 0.3, aluminum not over 0.06, copper not over 0.2, nickel not over 0.2, chromium not over 0.2, tin not over 0.05, niobium (columbium) not over 0.06, molybdenum not over 0.2 and vanadium not exceeding 0.05;

(clxxvii) Hot-rolled flat-rolled products, in coil, designated as N-316 and entered in an aggregate quantity not to exceed 500 t during the 12-month period beginning on September 1, 2002 or September 1, 2003 or during the period from September 1, 2004 through March 20, 2005, inclusive; the foregoing of API Grade X60 hydrogen induced cracking resistant (NACE) steel; tensile properties certified by the importer to meet the requirements of API Grade X60 (approximate values: yield strength 414 to 564 MPa, tensile strength 517 MPa, elongation not less than 25 percent and guaranteed resilience of 9.1 J at −21°C); thickness 4.83 mm to 16.0mm; width 1.02 m to 2.01 m; with chemical composition (percent by weight): carbon not over 0.16, manganese not exceeding 1.3, phosphorus not over 0.018, sulfur not over 0.003, silicon not over 0.45, aluminum not over 0.06, copper not over 0.4, nickel not over 0.35, chromium not over 0.2 and vanadium not over 0.08; with a hydrogen-induced cracking guarantee with an average of 9 cuts of: NACE solution A pH 3: crack length ratio less than 10 percent, crack thickness ratio less than 3 percent and crack sensitivity ratio less than 1 percent; NACE solution B pH 5: crack length ratio less than 5 percent, crack thickness ratio less than 1.5 percent and crack sensitivity ratio less than 1 percent;

(clxxviii) Hot-rolled flat-rolled products, in coils, designated as N-316 and entered in an aggregate quantity not to exceed 1,000 t during the 12-month period beginning on September 1, 2002 or September 1, 2003 or during the period from September 1, 2004 through March 20, 2005, inclusive; the foregoing of API grade X65 hydrogen induced cracking resistant (NACE) steel; tensile properties certified by the importer to meet the requirements of grade X65 (approximate values: yield strength 485 to 630 MPa, tensile strength 545 MPa, and elongation not less than 24 percent); thickness 2.54 mm to 15.24 mm; width 1.02 m to 2.01 m; with chemical composition (percent by weight): carbon not over 0.15, manganese not over 1.0, phosphorus not over 0.015, sulfur content not over 0.002, silicon not over 0.3, aluminum not over 0.05, copper not over 0.1, nickel not over 0.1, chromium not over 0.1 and vanadium not over 0.08; with a hydrogen-induced cracking guarantee with an average of 9 cuts of: NACE solution A pH 3: crack length ratio less than 15 percent, crack thickness ratio less than 5 percent and crack sensitivity ratio less than1.5 percent; and NACE solution B pH 5: crack length ratio less than 10 percent, crack thickness ratio less than 3 percent and crack sensitivity ratio less than 1 percent;

(clxxix) Hot-rolled flat-rolled products, in coils, designated as N-316 and entered in an aggregate quantity not to exceed 10,000 t during the 12-month period beginning on September 1, 2002 or September 1, 2003 or during the period from September 1, 2004 through March 20, 2005, inclusive; the foregoing of pressure vessel quality ASTM A 414 grade G steel; width over 1,950 mm with the following characteristics: yield strength minimum of 310 MPa; tensile strength of 517 to 620 MPa; elongation not less than 22 percent; guaranteed resilience of 22 J at −26°C; thickness of 3 mm to 12 mm; width 1.95 m or more; with chemical composition (percent by weight): carbon not over 0.27, manganese not over 1.2, phosphorus not over 0.025, sulfur not over 0.015, silicon not over 0.250, aluminum not over 0.08, copper not over 0.2, nickel not over 0.1, chromium not over 0.1 and vanadium not over 0.03;

(clxxx) Hot-rolled flat-rolled products, designated as N-316; the foregoing in coils, dual phase with low silicon, sometimes known as Usiphase D 60; with thickness of 2.35 mm to 6.25 mm; width not exceeding 1.46 m; yield strength of 330 MPa to 470 MPa; tensile strength of 580 MPa to 670 MPa; elongation not less than 20 percent in thickness of 2.35 mm to 2.999 mm, elongation not less than 24 percent in thickness of 3 mm to 6.25 mm; with chemical composition (percent by weight): carbon 0.06 to 0.09, manganese 0.8 to 1, phosphorus not over 0.03, sulfur not over 0.005, silicon not over 0.25, aluminum 0.02 to 0.06, copper not over 0.35, nickel not over 0.25, chromium not over 0.8, and vanadium not over 0.005;

(clxxxi) Hot-rolled API grade X70 high resilience flat-rolled products, in coils, designated as N-316; the foregoing with thickness 9.5 mm to 20 mm; width 1.65 m to 2.15 m; tensile properties certified by the importer to meet requirements of grade X70 (approximate values: yield strength 580 MPa, tensile strength 650 MPa, elongation not less than 33 percent and KCV 127 J at −40 °C); with chemical composition (percent by weight): carbon not over 0.1, manganese not over 1.6, phosphorus not over 0.025, sulfur not over 0.01, silicon not over 0.4, aluminum not over 0.06, copper not over 0.2, nickel not over 0.2; chromium not over 0.2, tin not over 0.05, niobium (columbium) not over 0.07, molybdenum not over 0.2 and vanadium not over 0.2;

(clxxxii) Hot-rolled flat-rolled API grade X80 high resilience products, in coils, designated as N-316 and entered in an aggregate quantity not to exceed 1,000 t during the 12-month period beginning on September 1, 2002 or September 1, 2003 or during the period from September 1, 2004 through March 20, 2005, inclusive; the foregoing with tensile properties certified by the importer to meet requirements of grade X80 (approximate values: yield strength 620 MPa, tensile strength 675 MPa, and elongation not less than 31 percent) and to be of toughness of 126 J at −40°C; thickness from 8 mm to 17 mm; width from 1.5 m to 2.0 m; with chemical composition (percent by weight): carbon not over 0.1, manganese not over 1.6, phosphorus not over 0.025, sulfur not over 0.01, silicon not over 0.4, aluminum content not over 0.06, copper not over 0.2, nickel not over 0.3, chromium not over 0.2, tin not over 0.05, niobium (columbium) not over 0.08, molybdenum not over 0.2 and vanadium not over 0.1;

(clxxxiii) Hot-rolled flat-rolled products, designated as N-374 and entered in an aggregate quantity not to exceed 4,000 t during the 12-month period beginning on September 1, 2002 or September 1, 2003 or during the period from September 1, 2004 through March 20, 2005, inclusive; the foregoing in coils; temper rolled; meeting ASTM A1011 DS Type A(modified); whether or not pickled and oiled; with chemical composition (percent by weight): carbon 0.025 to 0.064, manganese 0.175 to 0.274, phosphorus not over 0.017, sulfur not over 0.020, silicon not over 0.024, aluminum 0.025 to 0.060, nitrogen 0.0025 to 0.0050, copper not over 0.040, tin not over 0.010, chromium not over 0.040, nickel not over 0.040, molybdenum not over 0.010, columbium not over 0.005, vanadium not over 0.005, boron not over 0.0005 and titanium not over 0.005; gauge range from 1.37 to 6.38 mm and gauge to one-half or less than tolerance as specified in ASTM 568 and possessing non-earring properties;.

(clxxxiv) Hot-rolled flat-rolled products, designated as N-374 and entered in an aggregate quantity not to exceed 4,000 t during the 12-month period beginning on September 1, 2002 or September 1, 2003 or during the period from September 1, 2004 through March 20, 2005, inclusive; the foregoing in coils; temper rolled; meeting ASTM A1011 DS Type B (modified) or ASTM A622 SAE 1006; whether or not pickled and oiled or tension leveled; with chemical composition (percent by weight): carbon 0.030 to 0.060, manganese 0.200 to 0.274, phosphorus not over 0.017, sulfur not over 0.020, silicon not over 0.024, aluminum 0.030 to 0.055, nitrogen not over 0.0030, copper not over 0.040, tin not over 0.010, chromium not over 0.040, nickel not over 0.040, molybdenum not over 0.010, niobium (columbium) not over 0.005, vanadium not over 0.005, boron 0.0015 to 0.0027 and titanium not over 0.005; thickness1.80 mm to 6.27 mm with tolerance of one-half the standard tolerance specified in ASTM A568 and A635;

(clxxxv) High strength low alloy hot-rolled flat-rolled products, designated as N-374 and entered in an aggregate quantity not to exceed 1,500 t during the 12-month period beginning on September 1, 2002 or September 1, 2003 or during the period from September 1, 2004 through March 20, 2005, inclusive; the foregoing in coils; temper rolled; meeting SAEJ1392 O50; whether or not pickled and oiled or tension leveled; with inclusion shape control via a calcium treatment; with chemical composition (percent by weight): carbon 0.030 to 0.089, manganese 0.190 to 0.309, phosphorus not over 0.020, sulfur not over 0.005, silicon not over 0.030, aluminum 0.010 to 0.060, nitrogen not over 0.0050, copper not over 0.040, tin not over 0.010, chromium not over 0.040, nickel not over 0.040, molybdenum not over 0.010, niobium (columbium) 0.025 to 0.035, vanadium not over 0.005, boron not over 0.0005 and titanium 0.005 to 0.025; with a minimum yield strength of 345 MPa, a minimum tensile strength of 414 MPa and a minimum elongation of 24 percent in 50.8 mm; thickness 1.80 mm to 2.49 mm with tolerance of one half standard gauge tolerance specified in ASTM 568;

(clxxxvi) Hot-rolled flat rolled, continuous cast, designated as N-381 and entered in an aggregate quantity not to exceed 1,310 t during the 12-month period beginning on September 1, 2002 or September 1, 2003 or during the period from September 1, 2004 through March 20, 2005, inclusive; the foregoing in coils; ultra-clean, with individual particles of non-metallic inclusions not greater than 1 micrometer and clusters or groups of non-metallics not exceeding 5 micrometers in length; with chemical composition (percent by weight): carbon not over 0.08 (except for thickness of 2.06 mm for which carbon requirement is not over 0.064), manganese not over 0.45, phosphorus not over 0.025, sulfur not over 0.020, aluminum 0.025 to 0.065, silicon not over 0.050, chromium not over 0.050, nickel not over 0.050, copper not over 0.050 and molybdenum not over 0.010; surfaces free of digs, scratches, pits, gouges and slivers; with a crown of less than 0.051 mm measured 19.05 mm from the edge of the coil;

(clxxxvii) Hot-rolled flat-rolled products, designated as N-441; the foregoing in coils; with copper 0.22 to 0.30 percent by weight; molybdenum 0.18 to 0.23 percent, by weight; yield strength greater than or equal to 482 N/mm²; tensile strength 630 N/mm² or more; with chemical composition (percent by weight): carbon 0.10 to 0.16, manganese 0.70 to 0.90, phosphorus not over 0.025, sulfur not over 0.002, silicon 0.30 to 0.50, chromium 0.50 to 0.70 and nickel not over 0.20; width not over 1,138 mm; thickness not over 8.89 mm; thickness tolerance according to half of ASTM 568 specification; elongation greater than or equal to 16 percent; hardness of 70 HRB to 105 HRB; pickled and oiled; surface condition free of injurious defects such as holes, breaks, scabs, scale, and embosses; certified that coiled tubing will satisfy fatigue test (SPE papers 22820, 38407, and 54482) constantly.

(clxxxviii) Hot-rolled continuously cast flat-rolled products, designated as X-038, X-030 or X-068 and entered in an aggregate quantity not to exceed 25,000 t during the 12-month period beginning on September 1, 2002 or September 1, 2003 or during the period from September 1, 2004 through March 20, 2005, inclusive; the foregoing in coils; manufactured using an electro magnetic brake; ultra-clean, with non-metallic inclusions not greater than 5 microns in length (as measured in the hot-rolled state);.

(clxxxix) Hot-rolled flat-rolled, designated as N-304; the foregoing of a width of 600 mm or more; not clad, plated or coated; thickness over 10 mm; of high-strength steel according to a specification API 5L X-70 with tolerances in the chemistry of carbon ±0.01 percent, manganese ±0.05 percent, silicon ±0.05 percent, vanadium ±0.005 percent, niobium (columbium) ±0.005 percent and calcium 0.0010 to 0.0030 percent;

(cxc) Flat-rolled, thickness over 4.75 mm, designated as N-412; the foregoing for low temperature service; of non-alloy and other alloy steel; certified by the importer as meeting Canadian specification CAN/CSA S473; demonstrating enhanced toughness at low temperature to −50 degrees C by drop-weight testing (ASTM E-208) and Charpy impact testing (ASTM E-23) in the transverse direction; demonstrating enhanced weldability properties in crack tip opening displacement (CTOD) testing of the weld heat affected zone at temperatures below −15 degrees Celsius (CTOD testing according to BS 7448; containing phosphorus less than 0.014 percent by weight and sulfur less than 0.003 percent by weight; as obtained by vacuum degassing or other similar steel making practices, and by the addition of nickel from 0.23 to 1 percent by weight;

(cxci) Stainless steel angles, designated as N-324 or N-353; the foregoing hot-rolled; in sizes of 19.05 mm x 19.05 mm x 3.175 mm; meeting the characteristics described below:

(A) meeting AISI 304 or 304L specifications; or

(B) meeting AISI 316 or 316L specifications;

(cxcii) Improved machining cold-finished bars of stainless steel, designated as N-389 and entered in an aggregate quantity not to exceed 2,000 t during the 12-month period beginning on September 1, 2002 or September 1, 2003 or during the period from September 1, 2004 through March 20, 2005, inclusive; the foregoing in sizes less than 25.4 mm; sometimes referred to as (but not limited to) products known as “PRODEC'; containing sulfur (percent by weight) either 0.015 to 0.030 or 0.300 to 0.400; controlled dispersion and morphology of calcium-silicon-aluminum oxides and controlled dispersion of sulfides to avoid formation of stringers, achieved by a controlled melting process in the blowing, ladle, and casting stages; accompanied by mill certificate that V30 testing results in a speed over 250 m/minute;

(cxciii) Improved machining stainless steel wire rod, designated as N-389 and entered in an aggregate quantity not to exceed 500 t during the 12-month period beginning on September 1, 2002 or September 1, 2003 or during the period from September 1, 2004 through March 20, 2005, inclusive; the foregoing hot-rolled, solution annealed and descaled; measuring not over 25.4 mm; achieved by a melting process characterized by control of blowing, ladle, and casting stages, resulting in sulfur content (percent by weight) from 0.015 to 0.030 or from 0.300 to 0.400; with controlled morphology of calcium-silicon-aluminum oxides and controlled sulfide dispersion to avoid formation of stringers; accompanied by mill certificate that V30 testing results in a speed over 250 m/minute; sometimes referred to as (but not limited to) products known as “PRODEC”;

(cxciv) Hot-rolled martensitic stainless steel round bars, designated as N-395 and entered in an aggregate quantity not to exceed 50 t during the 12-month period beginning on September 1, 2002 or September 1, 2003 or during the period from September 1, 2004 through March 20, 2005, inclusive; the foregoing not further worked than cold finished; with chemical composition (percent by weight): carbon 0.80 or more, chromium 16 or more but not over 20 and silicon not over 1; diameter 16 mm or more but not over 32 mm;

(cxcv) Duplex stainless steel bars, designated as X-035; the foregoing annealed; diameter less than 25.4 cm; sometimes referred to as (but not limited to) products known as “AF 918”; with chemical composition (percent by weight): carbon not over 0.025, chromium 24.0 to 26.0, nickel 6.5 to 8.0, molybdenum 3.0 to 4.0, copper 1.2 to 2.0, tungsten 0.8 to 12.0 and nitrogen 0.23 to 0.33; meeting ASTM A182, ASTM A479, ASTM A789, ASTM A790, API6A and NACE MR0175;

(cxcvi) Stainless steel bars, designated as X-090 and entered in an aggregate quantity not to exceed 5,000 t during the 12-month period beginning on September 1, 2002 or September 1, 2003 or during the period from September 1, 2004 through March 20, 2005, inclusive; the foregoing free machining; diameter from 1.5 mm to 125.0 mm in round or hexagonal profile; length ranging from 3.0 m to 5.0 m; microstructure containing complex oxides of lime-silico-aluminate (comprising metallurgical phases anhorthite and/or pseudowollastonite); with calcium content from 30 to 300 ppm and oxygen from 70 to 300 ppm, and with calcium-to-oxygen ratio from 0.2 to 0.6; sometimes referred to as (but not limited to) products known as “UGIMA';

(cxcvii) Flat-rolled single reduced tin coated steel, designated as N-390 and entered in an aggregate quantity not to exceed 30,000 t during the 12-month period beginning on September 1, 2002 or September 1, 2003 or during the period from September 1, 2004 through March 20, 2005, inclusive; the foregoing having a width of 973.1375 mm to 976.3125 mm or 1,108.0750 mm to 1,111.2500 mm; in the following thicknesses: 0.2842 mm to 0.2958 mm (104 pounds/base box), 0.2793 mm to 0.2907 mm (102 pounds/base box), 0.2744 mm to 0.2856 mm (100 pounds/base box) or 0.2695 mm to 0.2805 mm (98 pounds/basebox); 0.15/0.15 to 0.25/0.25 tin coating, Type L, T-3.5 CA, low chrome;

(cxcviii) Tin mill flat-rolled products, designated as N-428 and entered in an aggregate quantity not to exceed 860 t during the 12-month period beginning on September 1, 2002 or September 1, 2003 or during the period from September 1, 2004 through March 20, 2005, inclusive; the foregoing single reduced, Type MR, 5C Matte Finish; width 1,073.15 mm to 1,149.35 mm; thickness 0.193 mm to 0.252 mm; including T-1 BA, T-3 BA, and T-4 CA; certified by the importer as produced to ASTM A623-00 and A624-98 and as being imported to be slit into two coils of equal widths (with each coil having a width between 533.4 mm and 571.50 mm) for use in the manufacture of engine gaskets;

(cxcix) Products known as tin mill black plate, designated as N-428 and entered in an aggregate quantity not to exceed 760 t during the 12-month period beginning on September 1, 2002 or September 1, 2003 or during the period from September 1, 2004 through March 20, 2005, inclusive; the foregoing single reduced, Type MR, 5C (Matte) Finish; width 1,085.85 mm to 1,219.20 mm; thickness 0.193 to 0.38 mm, including T-1 BA, T-2 BA and T-4 CA; certified by the importer as produced to ASTM A623-00 and A624-00, for use in the manufacture of engine gaskets, and as being imported to be (i) slit into two coils of equal widths (each coil having a width between 533.4 mm and 571.50 mm) or (ii) slit into two coils, one with a minimum coil width of 541.3375 mm and the other a maximum coil width of 609.60 mm;

(cc) Tin mill flat-rolled products, designated as N-526; the foregoing having a width of 900.1 mm (minus 0, plus 3.175 mm); temper of modified DR550; minimum elongation of 3 percent; continuously annealed; type L chemistry; oiled with acetyl tributyl citrate (ATBC); and either:

(A) electrolytically plated with tin, thickness 0.195 mm to 0.215 mm (tolerance +8/−5 percent), meeting ASTM A623, A623M, A626 or A626M; or

(B) plated with chromium oxides or with chromium and chromium oxides, thickness 0.195 mm (tolerance +8/−5 percent), meeting ASTM A623, A623M, A657 or A657M;

(cci) Hot-rolled flat-rolled high strength low alloy products, designated as X-099; the foregoing in coils; thickness over 3 mm; with inclusion shape control via calcium treatment with carbon; with chemical composition (percent by weight): carbon 0.02 or more but not over 0.12, manganese either (i) 0.20 or more but not over 0.40 or (ii) 0.90 or more but not over 1.90, phosphorus not over 0.02, phosphorus and sulfur combined not over 0.025 and niobium (columbium) or vanadium 0.02 or more (with niobium not over 0.15 and vanadium not over 0.20); with internal inclusion limits in accordance with ASTM E 45, Method A, as follows: Type A—less than or equal to 2.0 thin series, Type B—less than or equal to 2.0 thin series or less than or equal to 1.5 heavy series, Type C—less than or equal to 1.0 thin series or less than or equal to 0.5 heavy series and Type D—less than or equal to 2.0 thin series or less than or equal to 1.0 heavy series;

(ccii) Welded pipes and tubes, designated as N-397; meeting the characteristics described below:

(A) electric fusion welded steel process products; with outside diameter 45.72 cm or more but not over 60.96 cm; with any wall thickness; made to grades ASTM A671, A672 or A691; [add exception?] or

(B) submerged arc welded products; meeting either (I) API pipe specification 2B with an outside diameter of 457.2 mm or greater with the plate meeting API specifications 2H or API 2Y; or (II) ASTM Grade A252 in one of the following diameters and wall thicknesses: 457.2 mm or more but less than 609.6 mm in outside diameter, with wall thickness of 15.875 mm or more; 609.6 mm or more but less than 762 mm in outside diameter, with wall thickness over 22.225 mm; 762 mm or more but less than 914.4 mm in outside diameter, with wall thickness over 31.75 mm; 914.4 mm or more but less than 1066.8 mm in outside diameter, with wall thickness over 34.925 mm; or 1066.8 or more but not over 1219.2 mm in outside diameter, with wall thickness of 38.1 mm or more;

(cciii) Welded line pipes and tubes, designated as N-485 and entered in an aggregate quantity not to exceed 100,000 t during the 12-month period beginning on September 1, 2002 or September 1, 2003 or during the period from September 1, 2004 through March 20, 2005, inclusive; the foregoing certified as being made to API 5L standards with an outside diameter over 60.96 cm; of grade X 70 or higher;

(cciv) Welded drawn over mandrel tubes, designated as X-162; the foregoing measuring 45.00 mm or more but not over 120.00 mm in outside diameter (tolerance of 0.15 mm to 0.40 mm) and 1.50 mm or more but not over 4.00 mm in wall thickness (tolerance of no more than 3.0 percent but at least 0.10 mm); having a partial decarburization of no more than 0.10 mm in depth; certified by the importer as either (I) produced according to DIN 17204 under C2 with narrowed chemical analysis (percent by weight): carbon not over 0.23, manganese not over 0.70, silicon not over 0.25 and aluminum 0.02 or more; or (II) microalloyed steels for cold upsetting: 19Mn5 mod., 26Mn5 mod., 34Mn5 mod., 40Mn5 mod.; imported pursuant to a purchase order from an automotive prop shaft manufacturer in the United States for high quality tubes;

(ccv) Welded drawn over mandrel tubes, designated as X-162; the foregoing measuring 25.00 mm or more but not over 56.00 mm in outside diameter (inside diameter tolerance of not over 0.10 mm) and 1.00 mm or more but not over 3.50 mm in wall thickness (tolerance of not over 3.0 percent but at least 0.10 mm); having a partial decarburization of no more than 0.10 mm in depth; having an inner surface roughness (Rz) of no more than 0.004 mm; certified by the importer as produced according to DIN2393 C under St 34-3, St 37-3, St 44-3, St 52-3 with narrowed chemical analysis (killed by aluminum only): carbon not over 0.24 percent by weight, manganese not over 1.60 percent by weight, silicon not over 0.55 percent by weight and aluminum 0.02 percent or more by weight; imported pursuant to a purchase order from an automotive shock absorber manufacturer in the United States for high quality tubes;

(ccvi) Welded drawn over mandrel tubes, designated as X-162; the foregoing measuring 12.00 mm or more but not over 30.00 mm in outside diameter (inside diameter tolerance 0.05 mm to 0.16 mm) and 1.00 mm or more but not over 3.50 mm in wall thickness (tolerance of not over 0.10 mm); having a partial decarburization of no more than 0.10 mm in depth; having an inner surface roughness (Rz) of not over 0.004 mm; certified by the importer as produced according to DIN 2393 C under St-34-3, St 37-3, St 44-3 and St 52-3 with narrowed chemical analysis (killed by aluminum only): carbon not over 0.24 percent by weight, manganese not over 1.60 percent by weight, silicon not over 0.55 percent by weight, and aluminum 0.02 percent or more by weight; imported pursuant to a purchase order from an automotive or furniture gas spring manufacturer in the United States for high quality tubes.”

(ccvii) “Electrolytic chromium-coated tin-free products, entered in an aggregate quantity not to exceed 5,000 t during the 12-month period beginning on September 1, 2002 or September 1, 2003 or during the period from September 1, 2004 through March 20, 2005, inclusive; the foregoing in DR8 CA; thickness 0.14 mm (50 lbs. per base box) ±5 percent; width 898.53 mm ordered, 904.88 mm actual (tolerances per ASTM A623-90 and ASTM A657-87); with a 7C stone finish; BSO oiling (0.27 ±0.05 GM/BB);'

2. The following new subheadings are inserted in numerical sequence:

| [Goods * * *:]
“9903.74.30 | Enumerated in U.S. note 11(c)(xcii) to this subchapter and entered in an aggregate quantity not to exceed 250,000 t during a time period specified in such note | No change | No change | No change
9903.74.31 | Enumerated in U.S. note 11(c)(xciii) to this subchapter and entered in an aggregate quantity not to exceed 250,000 t during a time period specified in such note | No change | No change | No change
9903.74.46 | Enumerated in U.S. note 11(c)(xci) to this subchapter | No change | No change | No change
9903.74.47 | Enumerated in U.S. note 11(c)(cxxiv) to this subchapter | No change | No change | No change
9903.74.48 | Enumerated in U.S. note 11(c)(clxxxix) to this subchapter | No change | No change | No change
9903.74.49 | Enumerated in U.S. note 11(c)(cxc) to this subchapter | No change | No change | No change
9903.74.82 | Enumerated in U.S. note 11(c)(xc) to this subchapter | No change | No change | No change
9903.74.83 | Enumerated in U.S. note 11(c)(cix) to this subchapter | No change | No change | No change
9903.74.84 | Enumerated in U.S. note 11(c)(cx) to this subchapter | No change | No change | No change
9903.74.85 | Enumerated in U.S. note 11(c)(cxi) to this subchapter and entered in an aggregate quantity not to exceed 7,000 t during a time period specified in such note | No change | No change | No change
9903.74.86 | Enumerated in U.S. note 11(c)(cxii) to this subchapter | No change | No change | No change
9903.74.87 | Enumerated in U.S. note 11(c)(cxiii) to this subchapter | No change | No change | No change
9903.74.88 | Enumerated in U.S. note 11(c)(cxiv) to this subchapter | No change | No change | No change
9903.74.89 | Enumerated in U.S. note 11(c)(cxv) to this subchapter and entered in an aggregate quantity not to exceed 20,000 t during a time period specified in such note | No change | No change | No change
9903.74.90 | Enumerated in U.S. note 11(c)(cxvi) to this subchapter and entered in an aggregate quantity not to exceed 10,500 t during a time period specified in such note | No change | No change | No change
9903.74.91 | Enumerated in U.S. note 11(c)(cxvii) to this subchapter and entered in an aggregate quantity not to exceed 5,300 t during a time period specified in such note | No change | No change | No change
9903.74.92 | Enumerated in U.S. note 11(c)(cxviii) to this subchapter. | No change | No change | No change
9903.74.93 | Enumerated in U.S. note 11(c)(cxix) to this subchapter | No change | No change | No change
9903.74.94 | Enumerated in U.S. note 11(c)(cxxxviii) to this subchapter | No change | No change | No change
9903.74.95 | Enumerated in U.S. note 11(c)(cxxxix) to this subchapter | No change | No change | No change
9903.74.96 | Enumerated in U.S. note 11(c)(clxxiv) to this subchapter and entered in an aggregate quantity not to exceed 10,000 t during a time period specified in such note | No change | No change | No change
9903.74.97 | Enumerated in U.S. note 11(c)(clxxv) to this subchapter | No change | No change | No change
9903.74.98 | Enumerated in U.S. note 11(c)(clxxvi) to this subchapter | No change | No change | No change
9903.74.99 | Enumerated in U.S. note 11(c)(clxxvii) to this subchapter and entered in an aggregate quantity not to exceed 500 t during a time period specified in such note | No change | No change | No change
9903.75.00 | Enumerated in U.S. note 11(c)(clxxviii) to this subchapter and entered in an aggregate quantity not to exceed 1,000 t during a time period specified in such note | No change | No change | No change
9903.75.01 | Enumerated in U.S. note 11(c)(clxxix) to this subchapter and entered in an aggregate quantity not to exceed 10,000 t during a time period specified in such note | No change | No change | No change
9903.75.02 | Enumerated in U.S. note 11(c)(clxxx) to this subchapter. | No change | No change | No change
9903.75.03 | Enumerated in U.S. note 11(c)(clxxxi) to this subchapter | No change | No change | No change
9903.75.04 | Enumerated in U.S. note 11(c)(clxxxii) to this subchapter. | No change | No change | No change
9903.75.05 | Enumerated in U.S. note 11(c)(clxxxiii) to this subchap-ter and entered in an aggregate quantity not to exceed 4,000 t during a time period specified in such note | No change | No change | No change
9903.75.06 | Enumerated in U.S. note 11(c)(clxxxiv) to this subchapter and entered in an aggregate quantity not to exceed 4,000 t during a time period specified in such note | No change | No change | No change
9903.75.07 | Enumerated in U.S. note 11(c)(clxxxv) to this subchapter and entered in an aggregate quantity not to exceed 1,500 t during a time period specified in such note | No change | No change | No change
9903.75.08 | Enumerated in U.S. note 11(c)(clxxxvi) to this subchapter and entered in an aggregate quantity not to exceed 1,310 t during a time period specified in such note | No change | No change | No change
9903.75.09 | Enumerated in U.S. note 11(c)(clxxxvii) to this subchapter | No change | No change | No change
9903.75.10 | Enumerated in U.S. note 11(c)(clxxxviii) to this subchapter and entered in an aggregate quantity not to exceed 25,000 t during a time period specified in such note | No change | No change | No change
9903.75.11 | Enumerated in U.S. note 11(c)(cxl) to this subchapter | No change | No change | No change
9903.75.12 | Enumerated in U.S. note 11(c)(cci) to this subchapter | No change | No change | No change
9903.75.36 | Enumerated in U.S. note 11(c)(lxxxiii) to this subchapter | No change | No change | No change
9903.75.37 | Enumerated in U.S. note 11(c)(lxxxiv) to this subchapter | No change | No change | No change
9903.75.38 | Enumerated in U.S. note 11(c)(lxxxv) to this subchapter | No change | No change | No change
9903.75.39 | Enumerated in U.S. note 11(c)(xcvii) to this subchapter | No change | No change | No change
9903.75.40 | Enumerated in U.S. note 11(c)(xcviii) to this subchapter | No change | No change | No change
9903.75.41 | Enumerated in U.S. note 11(c)(xcix) to this subchapter | No change | No change | No change
9903.75.42 | Enumerated in U.S. note 11(c)(c) to this subchapter | No change | No change | No change
9903.75.43 | Enumerated in U.S. note 11(c)(ci) to this subchapter | No change | No change | No change
9903.75.44 | Enumerated in U.S. note 11(c)(cii) to this subchapter | No change | No change | No change
9903.75.45 | Enumerated in U.S. note 11(c)(cxxviii) to this subchapter | No change | No change | No change
9903.75.46 | Enumerated in U.S. note 11(c)(cxxix) to this subchapter | No change | No change | No change
9903.75.47 | Enumerated in U.S. note 11(c)(cxxx) to this subchapter | No change | No change | No change
9903.75.48 | Enumerated in U.S. note 11(c)(cxxxi) to this subchapter | No change | No change | No change
9903.75.49 | Enumerated in U.S. note 11(c)(cxxxii) to this subchapter | No change | No change | No change
9903.75.50 | Enumerated in U.S. note 11(c)(clvii) to this subchapter and entered in an aggregate quantity not to exceed 15,000 t during a time period specified in such note | No change | No change | No change
9903.75.51 | Enumerated in U.S. note 11(c)(clviii) to this subchapter | No change | No change | No change
9903.75.52 | Enumerated in U.S. note 11(c)(clix) to this subchapter and entered in an aggregate quantity not to exceed 10,000 t during a time period specified in such note | No change | No change | No change
9903.75.53 | Enumerated in U.S. note 11(c)(clx) to this subchapter | No change | No change | No change
9903.75.54 | Enumerated in U.S. note 11(c)(clxi) to this subchapter and entered in an aggregate quantity not to exceed 20,000 t during a time period specified in such note | No change | No change | No change
9903.75.55 | Enumerated in U.S. note 11(c)(clxii) to this subchapter and entered in an aggregate quantity not to exceed 15,000 t during a time period specified in such note | No change | No change | No change
9903.75.56 | Enumerated in U.S. note 11(c)(clxiii) to this subchapter | No change | No change | No change
9903.75.57 | Enumerated in U.S. note 11(c)(clxiv) to this subchapter | No change | No change | No change
9903.75.58 | Enumerated in U.S. note 11(c)(clxv) to this subchapter and entered in an aggregate quantity not to exceed 86 t during a time period specified in such note | No change | No change | No change
9903.75.59 | Enumerated in U.S. note 11(c)(clxvi) to this subchapter | No change | No change | No change
9903.76.09 | Enumerated in U.S. note 11(c)(ciii) to this subchapter | No change | No change | No change
9903.76.10 | Enumerated in U.S. note 11(c)(cv) to this subchapter and entered in an aggregate quantity not to exceed 3,000 t during a time period specified in such note | No change | No change | No change
9903.76.11 | Enumerated in U.S. note 11(c)(cxxxiii) to this subchapter | No change | No change | No change
9903.76.12 | Enumerated in U.S. note 11(c)(cxxxiv) to this subchapter | No change | No change | No change
9903.76.13 | Enumerated in U.S. note 11(c)(clii) to this subchapter | No change | No change | No change
9903.76.14 | Enumerated in U.S. note 11(c)(clxvii) to this subchapter and entered in an aggregate quantity not to exceed 80,000 t during a time period specified in such note | No change | No change | No change
9903.76.15 | Enumerated in U.S. note 11(c)(clxviii) to this subchapter and entered in an aggregate quantity not to exceed 9,550 t during a time period specified in such note | No change | No change | No change
9903.76.16 | Enumerated in U.S. note 11(c)(clxix) to this subchapter and entered in an aggregate quantity not to exceed 4,000 t during a time period specified in such note | No change | No change | No change
9903.76.17 | Enumerated in U.S. note 11(c)(clxx) to this subchapter | No change | No change | No change
9903.76.18 | Enumerated in U.S. note 11(c)(clxxi) to this subchapter | No change | No change | No change
9903.76.19 | Enumerated in U.S. note 11(c)(clxxii) to this subchapter | No change | No change | No change
9903.76.20 | Enumerated in U.S. note 11(c)(clxxiii) to this subchapter | No change | No change | No change
9903.76.31 | Enumerated in U.S. note 11(c)(cxliii) to this subchapter | No change | No change | No change
9903.76.32 | Enumerated in U.S. note 11(c)(cxcvii) to this subchapter and entered in an aggregate quantity not to exceed 30,000 t during a time period specified in such note | No change | No change | No change
9903.76.33 | Enumerated in U.S. note 11(c)(cxcviii) to this subchapter and entered in an aggregate quantity not to exceed 860 t during a time period specified in such note | No change | No change | No change
9903.76.34 | Enumerated in U.S. note 11(c)(cxcix) to this subchapter and entered in an aggregate quantity not to exceed 760 t during a time period specified in such note | No change | No change | No change
9903.76.35 | Enumerated in U.S. note 11(c)(cc) to this subchapter | No change | No change | No change
9903.76.62 | Enumerated in U.S. note 11(c)(lxxxvi) to this subchapter | No change | No change | No change
9903.76.63 | Enumerated in U.S. note 11(c)(lxxxvii) to this subchapter | No change | No change | No change
9903.76.64 | Enumerated in U.S. note 11(c)(lxxxviii) to this subchapter | No change | No change | No change
9903.76.65 | Enumerated in U.S. note 11(c)(lxxxix) to this subchapter | No change | No change | No change
9903.76.66 | Enumerated in U.S. note 11(c)(cv) to this subchapter | No change | No change | No change
9903.76.67 | Enumerated in U.S. note 11(c)(cvi) to this subchapter and entered in an aggregate quantity not to exceed 5 t during a time period specified in such note | No change | No change | No change
9903.76.68 | Enumerated in U.S. note 11(c)(cvii) to this subchapter and entered in an aggregate quantity not to exceed 15,000 t during a time period specified in such note | No change | No change | No change
9903.76.69 | Enumerated in U.S. note 11(c)(cviii) to this subchapter | No change | No change | No change
9903.76.70 | Enumerated in U.S. note 11(c)(cxxiv) to this subchapter | No change | No change | No change
9903.76.71 | Enumerated in U.S. note 11(c)(cxxxv) to this subchapter | No change | No change | No change
9903.76.72 | Enumerated in U.S. note 11(c)(cxxxvi) to this subchapter | No change | No change | No change
9903.76.73 | Enumerated in U.S. note 11(c)(cxxxvii) to this subchapter | No change | No change | No change
9903.76.74 | Enumerated in U.S. note 11(c)(cxlvi) to this subchapter | No change | No change | No change
9903.76.75 | Enumerated in U.S. note 11(c)(cxlvii) to this subchapter and entered in an aggregate quantity not to exceed 100 t during a time period specified in such note | No change | No change | No change
9903.76.76 | Enumerated in U.S. note 11(c)(cxlviii) to this subchapter | No change | No change | No change
9903.76.77 | Enumerated in U.S. note 11(c)(cxlix) to this subchapter | No change | No change | No change
9903.76.78 | Enumerated in U.S. note 11(c)(cl) to this subchapter | No change | No change | No change
9903.76.79 | Enumerated in U.S. note 11(c)(cli) to this subchapter | No change | No change | No change
9903.76.80 | Enumerated in U.S. note 11(c)(cliii) to this subchapter | No change | No change | No change
9903.76.91 | Enumerated in U.S. note 11(c)(lxxx) to this subchapter | No change | No change | No change
9903.76.92 | Enumerated in U.S. note 11(c)(lxxxi) to this subchapter | No change | No change | No change
9903.76.93 | Enumerated in U.S. note 11(c)(lxxxii) to this subchapter | No change | No change | No change
9903.76.94 | Enumerated in U.S. note 11(c)(xcv) to this subchapter and entered in an aggregate quantity not to exceed 1,472 t during a time period specified in such note | No change | No change | No change
9903.76.95 | Enumerated in U.S. note 11(c)(xcvi) to this subchapter | No change | No change | No change
9903.76.96 | Enumerated in U.S. note 11(c)(cxxiv) to this subchapter | No change | No change | No change
9903.76.97 | Enumerated in U.S. note 11(c)(cxxv) to this subchapter | No change | No change | No change
9903.76.98 | Enumerated in U.S. note 11(c)(cxxvi) to this subchapter | No change | No change | No change
9903.76.99 | Enumerated in U.S. note 11(c)(cxxvii) to this subchapter | No change | No change | No change
9903.77.00 | Enumerated in U.S. note 11(c)(cxxiii) to this subchapter | No change | No change | No change
9903.77.01 | Enumerated in U.S. note 11(c)(clvi) to this subchapter | No change | No change | No change
9903.77.34 | Enumerated in U.S. note 11(c)(xciv) to this subchapter | No change | No change | No change
9903.77.35 | Enumerated in U.S. note 11(c)(cxxii) to this subchapter | No change | No change | No change
9903.77.36 | Enumerated in U.S. note 11(c)(cxliv) to this subchapter and entered in an aggregate quantity not to exceed 5 t during a time period specified in such note | No change | No change | No change
9903.77.37 | Enumerated in U.S. note 11(c)(cxlv) to this subchapter | No change | No change | No change
9903.77.38 | Enumerated in U.S. note 11(c)(ccii) to this subchapter | No change | No change | No change
9903.77.39 | Enumerated in U.S. note 11(c)(cciii) to this subchapter and entered in an aggregate quantity not to exceed 100,000 t during a time period specified in such note | No change | No change | No change
9903.77.40 | Enumerated in U.S. note 11(c)(cciv) to this subchapter | No change | No change | No change
9903.77.41 | Enumerated in U.S. note 11(c)(ccv) to this subchapter | No change | No change | No change
9903.77.42 | Enumerated in U.S. note 11(c)(ccvi) to this subchapter | No change | No change | No change
9903.77.50 | Enumerated in U.S. note 11(c)(clv) to this subchapter | No change | No change | No change
9903.77.68 | Enumerated in U.S. note 11(c)(cxx) to this subchapter | No change | No change | No change
9903.77.69 | Enumerated in U.S. note 11(c)(cxxi) to this subchapter | No change | No change | No change
9903.77.70 | Enumerated in U.S. note 11(c)(cxli) to this subchapter | No change | No change | No change
9903.77.71 | Enumerated in U.S. note 11(c)(cliv) to this subchapter | No change | No change | No change
9903.77.72 | Enumerated in U.S. note 11(c)(cxci) to this subchapter | No change | No change | No change
9903.77.73 | Enumerated in U.S. note 11(c)(cxcii) to this subchapter and entered in an aggregate quantity not to exceed 2,000 t during a time period specified in such note | No change | No change | No change
9903.77.74 | Enumerated in U.S. note 11(c)(cxciv) to this subchapter and entered in an aggregate quantity not to exceed 50 t during a time period specified in such note | No change | No change | No change
9903.77.75 | Enumerated in U.S. note 11(c)(cxcv) to this subchapter | No change | No change | No change
9903.77.76 | Enumerated in U.S. note 11(c)(cxcvi) to this subchapter and entered in an aggregate quantity not to exceed 5,000 t during a time period specified in such note | No change | No change | No change
9903.77.86 | Enumerated in U.S. note 11(c)(cxciii) to this subchapter and entered in an aggregate quantity not to exceed 500 t during a time period specified in such note | No change | No change | No change
9903.78.14 | Enumerated in U.S. note 11(c)(cxlii) to this subchapter | No change | No change | No change
9903.77.86 | Enumerated in U.S. note 11(c)(ccvii) to this subchapter and entered in an aggregate quantity not to exceed 5,000 t during a time period specified in such note | No change | No change | No change
Conforming changes
Subheading 9903.72.34 is modified by inserting at the end thereof “, as described in subheadings 9903.74.30 through 9903.74.31”.
Subheading 9903.72.57 is modified by deleting “9903.74.45” and by inserting in lieu thereof “9903.74.47”.
Subheading 9903.72.78 is modified by deleting “9903.74.81” and by inserting in lieu thereof “9903.75.11”.
Subheading 9903.73.01 is modified by deleting “9903.75.32” and by inserting in lieu thereof “9903.75.59”.
Subheading 9903.73.18 is modified by deleting “9903.76.08” and by inserting in lieu thereof “9903.76.20”.
Subheading 9903.73.35 is modified by deleting “9903.76.29” and by inserting in lieu thereof “9903.76.36”.
Subheading 9903.73.48 is modified by deleting “9903.76.61” and by inserting in lieu thereof “9903.76.80”.
Subheading 9903.73.55 is modified by deleting “9903.76.90” and by inserting in lieu thereof “9903.77.01”.
Subheading 9903.73.82 is modified by deleting “9903.77.33” and by inserting in lieu thereof “9903.77.42”.
Subheading 9903.73.88 is modified by inserting at the end thereof “, as described in subheading 9903.77.50”.
Subheading 9903.74.01 is modified by deleting “9903.77.67” and by inserting in lieu thereof “9903.77.76”.
Subheading 9903.74.12 is modified by deleting “subheading 9903.77.85” and by inserting in lieu thereof “subheadings 9903.77.85 through 9903.77.86”.
Subheading 9903.74.18 is modified by deleting “9903.78.13” and by inserting in lieu thereof “9903.78.14”.

[FR Doc. 02-22336 Filed 8-29-02; 8:45 am]

BILLING CODE 3190-01-P